ENVIRONMENTAL PROTECTION AGENCY

40 CFR Part 62

[EPA-HQ-OAR-2012-0319; FRL-9923-62-OAR]

RIN 2060-AR77

Federal Plan Requirements for Sewage Sludge Incineration Units Constructed on or Before October 14, 2010

AGENCY: Environmental Protection Agency (EPA).

ACTION: Proposed rule.

SUMMARY: On March 21, 2011, the Environmental Protection Agency (EPA) issued emissions standards for new and existing sewage sludge incineration units (SSI). This action proposes that existing SSI units implement the emission guidelines (EG) adopted on March 21, 2011, in states that do not have an approved state plan implementing the EG in place by March 21, 2012. This Federal Plan will result in emissions reductions of certain pollutants from all affected units.

DATES: Comments. Comments must be received on or before June 11, 2015.

Public Hearing. If anyone contacts the EPA by May 7, 2015 requesting to speak at a public hearing, the EPA will hold a public hearing on May 12, 2015.

ADDRESSES: Submit your comments on the Federal Plan requirements proposed rule, identified by Docket ID No. EPA-HQ-OAR-2012-0319, by one of the following methods:

• Federal Rulemaking Portal: www.regulations.gov: Follow the online instructions for submitting comments.

• Email: a-and-r-Docketa@epa.gov, Attention Docket ID No. EPA-HQ-OAR-2012-0319.

• Facsimile: Fax your comments to (202) 566-9744, Attention Docket ID No. EPA-HQ-OAR-2012-0319.

• Mail: Send your comments to: EPA Docket Center (EPA/DC), Environmental Protection Agency, Mailcode: 28221T, 1200 Pennsylvania Ave. NW., Washington, DC 20460, Attention Docket ID No. EPA-HQ-OAR-2012-0319. We request that a separate copy also be sent to the contact person identified below (see FOR FURTHER INFORMATION CONTACT).

• Hand Delivery: Deliver your comments to: EPA Docket Center (EPA/DC), EPA WJC West Building, Room 3334, 1301 Constitution Ave. NW., Washington, DC 20004, Attention Docket ID No. EPA-HQ-OAR-2012-0319. Such deliveries are accepted only during the normal hours of operation (8:30 a.m. to 4:30 p.m., Monday through Friday, excluding legal holidays) and special arrangements should be made for deliveries of boxed information.

Instructions: Direct your comments on the Federal Plan requirements proposed rule to Docket ID No. EPA-HQ-OAR-2012-0319. The EPA's policy is that all comments received will be included in the public docket and may be made available online at www.regulations.gov, including any personal information provided, unless the comment includes information claimed to be confidential business information (CBI) or other information whose disclosure is restricted by statute. Do not submit information that you consider to be CBI or otherwise protected through www.regulations.gov or email. The www.regulations.gov Web site is an “anonymous access” system, which means the EPA will not know your identity or contact information unless you provide it in the body of your comment. If you send an email comment directly to the EPA without going through www.regulations.gov, your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption and be free of any defects or viruses.

Public Hearing: If a public hearing is held, it will be held at the EPA's campus located at 109 T.W. Alexander Drive in Research Triangle Park, NC. Contact Ms. Virginia Hunt at (919) 541-0832, to request a hearing, to request to speak at a public hearing or to determine if a hearing will be held. If no one contacts the EPA requesting to speak at a public hearing concerning this proposed rule by May 7, 2015, a public hearing will not be held. If a hearing is held, it will provide interested parties the opportunity to present data, views or arguments concerning the proposed action. The EPA will make every effort to accommodate all speakers who arrive and register. Because this hearing, if held, will be at U.S. government facilities, individuals planning to attend the hearing should be prepared to show valid picture identification to the security staff in order to gain access to the meeting room. Please note that the REAL ID Act, passed by Congress in 2005, established new requirements for entering federal facilities. If your driver's license is issued by Alaska, American Samoa, Arizona, Kentucky, Louisiana, Maine, Massachusetts, Minnesota, Montana, New York, Oklahoma or the state of Washington, you must present an additional form of identification to enter the federal building. Acceptable alternative forms of identification include: Federal employee badges, passports, enhanced driver's licenses and military identification cards. In addition, you will need to obtain a property pass for any personal belongings you bring with you. Upon leaving the building, you will be required to return this property pass to the security desk. No large signs will be allowed in the building, cameras may only be used outside of the building and demonstrations will not be allowed on federal property for security reasons.

The EPA may ask clarifying questions during the oral presentations, but will not respond to the presentations at that time. Written statements and supporting information submitted during the comment period will be considered with the same weight as oral comments and supporting information presented at the public hearing. Commenters should notify Ms. Hunt if they will need specific equipment, or if there are other special needs related to providing comments at the hearings. Verbatim transcripts of the hearing and written statements will be included in the docket for the rulemaking. The EPA will make every effort to follow the schedule as closely as possible on the day of the hearing; however, please plan for the hearing to run either ahead of schedule or behind schedule. All details regarding a public hearing if one is held will be posted on our Web site at http://www.epa.gov/ttn/atw/129/ssi/ssipg.html. The hearing will be cancelled without further notice.

Docket: The EPA has established a docket for this action under Docket ID No. EPA-HQ-OAR-2012-0319. The EPA has previously established a docket for the March 21, 2011, original sewage sludge incinerator (SSI) new source performance standards (NSPS) and emissions guidelines (EG) under Docket ID No. EPA-HQ-OAR-2009-0559. All documents in the docket are listed in the www.regulations.gov index. Although listed in the index, some information is not publicly available, e.g., CBI or other information whose disclosure is restricted by statute. Certain other material, such as copyrighted material, will be publicly available only in hard copy form. Publicly available docket materials are available either electronically at www.regulations.gov or in hard copy at the EPA Docket Center EPA/DC, EPA WJC West Building, Room 3334, 1301 Constitution Ave. NW., Washington, DC. The Public Reading Room is open from 8:30 a.m. to 4:30 p.m., Monday through Friday, excluding holidays. The telephone number for the Public Reading Room is (202) 566-1744, and the telephone number for the EPA Docket Center is (202) 566-1742.

FOR FURTHER INFORMATION CONTACT: Ms. Amy Hambrick, Fuels and Incineration Group, Sector Policies and Programs Division (E143-05), Environmental Protection Agency, Research Triangle Park, North Carolina 27711; telephone number: (919) 541-0964; fax number: (919) 541-3470; email address: hambrick.amy@epa.gov.

SUPPLEMENTARY INFORMATION: Acronyms and Abbreviations.The following acronyms and abbreviations are used in this document.

7-PAH 7-Polycyclic Aromatic Hydrocarbons

ACI Activated Carbon Injection

AG Attorney General

ANSI American National Standards Institute

ASME American Society of Mechanical Engineers

ASTM American Society of Testing and Materials

CAA Clean Air Act

CBI Confidential Business Information

Cd Cadmium

CDX Central Data Exchange

CEDRI Compliance and Emissions Data Reporting Interface

CEMS Continuous Emissions Monitoring Systems

CFR Code of Federal Regulations

CO Carbon Monoxide

Cr Chromium

EG Emission Guidelines

EJ Environmental Justice

ERT Electronic Reporting Tool

ESP Electrostatic Precipitators

FB Fluidized Bed

FF Fabric Filter

HAP Hazardous Air Pollutants

HCl Hydrogen Chloride

Hg Mercury

ISTDMS Integrated Sorbent Trap Dioxin Monitoring System

ISTMMS Integrated Sorbent Trap Mercury Monitoring System

Mg/dscm Milligrams per Dry Standard Cubic Meter

MH Multiple Hearth

Mn Manganese

NAICS North American Industrial Classification System

Ng/dscm Nanograms per Dry Standard Cubic Meter

Ni Nickel

NOX Nitrogen Oxides

NSPS New Source Performance Standards

NTTAA National Technology Transfer and Advancement Act of 1995

OAQPS Office of Air Quality Planning and Standards

OMB Office of Management and Budget

Pb Lead

PCB Polychlorinated Biphenyls

PCDD/PCDF Polychlorinated Dibenzo-P-Dioxins and Polychlorinated Dibenzofurans

PM Particulate Matter

PPM Parts per Million

PPMV Parts per Million by Volume

PPMDV Parts per Million of Dry Volume

PRA Paperwork Reduction Act

PS Performance Specifications

RFA Regulatory Flexibility Act

SBA Small Business Administration

SO2 Sulfur Dioxide

SSI Sewage Sludge Incineration

TEF Toxicity Equivalence Factor

TEQ Toxicity Equivalence

The Court U.S. Court of Appeals for the District of Columbia Circuit

TMB Total Mass Basis

TPY Tons per Year

TTN Technology Transfer Network

UMRA Unfunded Mandates Reform Act of 1995

VCS Voluntary Consensus Standards

WWW World Wide Web

Organization of This Document. The following outline is provided to aid in locating information in this preamble.

I. General Information

A. Does the proposed action apply to me?

B. What should I consider as I prepare my comments?

II. Background Information

A. What is the regulatory development background for this proposed rule?

B. What is the purpose of this proposed rule?

C. What is the status of state plan submittals?

III. Affected Facilities

A. What is a sewage sludge incinerator?

B. Does the Federal Plan apply to me?

C. How do I determine if my SSI is covered by an approved and effective state plan?

IV. Elements of the SSI Federal Plan

A. Legal Authority and Enforcement Mechanism

B. Inventory of Affected SSI

C. Inventory of Emissions

D. Compliance Schedules

E. Emissions Limits and Operating Limits

F. Operator Training and Qualification Requirements

G. Testing, Monitoring, Recordkeeping and Reporting Requirements

H. Record of Public Hearings

I. Progress Reports

J. Affirmative Defense to Malfunctions

V. Summary of Proposed SSI Federal Plan Requirements

A. What are the proposed applicability requirements?

B. What are the proposed compliance schedules?

C. What are the proposed emissions limits and operating limits?

D. What are the proposed performance testing and monitoring requirements?

E. What are the proposed recordkeeping and reporting requirements?

F. What other requirements is the EPA proposing?

VI. SSI That Have or Will Shut Down

A. Units That Plan To Close Rather Than Comply

B. Inoperable Units

C. SSI That Have Shut Down

VII. Implementation of the Federal Plan and Delegation

A. Background of Authority

B. Delegation of the Federal Plan and Retained Authorities

C. Mechanisms for Transferring Authority

D. Implementing Authority

VIII. Title V Operating Permits

A. Title V and Delegation of a Federal Plan

IX. Statutory and Executive Order Reviews

A. Executive Order 12866: Regulatory Planning and Review and Executive Order 13563: Improving Regulation and Regulatory Review

B. Paperwork Reduction Act

C. Regulatory Flexibility Act

D. Unfunded Mandates Reform Act

E. Executive Order 13132: Federalism

F. Executive Order 13175: Consultation and Coordination With Indian Tribal Governments

G. Executive Order 13045: Protection of Children From Environmental Health Risks and Safety Risks

H. Executive Order 13211: Actions That Significantly Affect Energy Supply, Distribution, or Use

I. National Technology Transfer and Advancement Act

J. Environmental Justice Considerations

K. Executive Order 12898: Federal Actions To Address Environmental Justice in Minority Populations and Low-Income Populations

I. General Information

A. Does the proposed action apply to me?

Regulated Entities. If you own or operate an existing SSI and are not already subject to an EPA-approved and effective state plan implementing the March 21, 2011, emissions guidelines (EG), you may be covered by this proposed action. Existing SSI are those that commenced construction on or before October 14, 2010. Regulated categories and entities include those that operate SSI. Although there is no specific North American Industry Classification System (NAICS) code for SSI, these units may be operated by wastewater treatment facilities designed to treat domestic sewage sludge. The following NAICS codes could apply as shown in Table 1 below:

Table 1—Examples of Potentially Regulated Entities
Category | NAICS code | Examples of potentially regulated entities
Solid waste combustors and incinerators | 562213 | Municipalities with SSI units.
Sewage treatment facilities | 221320 |

This table is not intended to be exhaustive, but rather provides a general guide for identifying entities likely to be affected by the proposed action. To determine whether your facility would be affected by this action, you should examine the applicability criteria in 40 CFR 62.15855 to 62.15870 of subpart LLL being proposed today. If you have any questions regarding the applicability of this action to a particular entity, contact the person listed in the preceding FOR FURTHER INFORMATION CONTACT section.

B. What should I consider as I prepare my comments?

1. Submitting CBI

Do not submit information that you consider to be CBI electronically through www.regulations.gov or email. Send or deliver information identified as CBI to only the following address:

OAQPS Document Control Officer (Room C404-02), U.S. EPA, Research Triangle Park, NC 27711, Attention Docket ID No. EPA-HQ-OAR-2012-0319. Clearly mark the part or all of the information that you claim to be CBI. For CBI on a disk or CD-ROM that you mail to the EPA, mark the outside of the disk or CD-ROM as CBI and then identify electronically within the disk or CD-ROM the specific information that is claimed as CBI. In addition to one complete version of the comment that includes information claimed as CBI, a copy of the comment that does not contain the information claimed as CBI must be submitted for inclusion in the public docket. Information marked as CBI will not be disclosed except in accordance with procedures set forth in 40 CFR part 2.

If you have any questions about CBI or the procedures for claiming CBI, please consult the person identified in the FOR FURTHER INFORMATION CONTACT section.

2. Docket. The docket number for the proposed action regarding the SSI Federal Plan (40 CFR part 62, subpart LLL) is Docket ID No. EPA-HQ-OAR-2012-0319.

3. World Wide Web (WWW). In addition to being available in the docket, an electronic copy of the proposed action is available on the WWW through the Technology Transfer Network (TTN) Web site. Following signature, the EPA will post a copy of the proposed action at http://www.epa.gov/airtoxics/129/ssi/ssipg.html. The TTN provides information and technology exchange in various areas of air pollution control. Additional information is also available at the same Web site.

4. Solicitation of Comments

The EPA is aware of concerns regarding the 40 CFR 62.16015 provision requiring the SSI to operate at a minimum of 85 percent of the maximum permitted capacity during testing. We are specifically soliciting comments and additional data on whether the 85 percent threshold warrants a revision due to operational limitations or other factors.

II. Background Information

A. What is the regulatory development background for this proposed rule?

Section 129 of the Clean Air Act (CAA), titled, “Solid Waste Combustion,” requires the EPA to develop and adopt standards for solid waste incineration units pursuant to CAA sections 111 and 129. On March 21, 2011, the EPA promulgated NSPS and EG for SSI units located at wastewater treatment facilities designed to treat domestic sewage sludge. See 76 FR 15372. Codified at 40 CFR part 60, subparts LLLL and MMMM, these final rules set limits for nine pollutants under section 129 of the CAA: cadmium (Cd), carbon monoxide (CO), hydrogen chloride (HCl), lead (Pb), mercury (Hg), nitrogen oxides (NOX), particulate matter (PM), polychlorinated dibenzo-p-dioxins and polychlorinated dibenzofurans (PCDDs/PCDFs), and sulfur dioxide (SO2).

Sections 111(b) and 129(a) of the CAA address emissions from new units (i.e., NSPS), and CAA sections 111(d) and 129(b) address emissions from existing units (i.e., EG). The NSPS are directly enforceable federal regulations, and, under CAA section 129(f)(1), become effective 6 months after promulgation. Unlike the NSPS, the EG are not themselves directly enforceable.

Section 129(b)(2) of the CAA directs states with existing SSI subject to the EG to submit plans to the EPA that implement and enforce the EG. The deadline for states to submit state plans to the EPA for review was March 21, 2012.¹ Sections 111 and 129(b)(3) of the CAA and 40 CFR 60.27(c) and (d) require the EPA to develop, implement and enforce a Federal Plan for SSI in any state without an approvable state plan within 2 years after promulgation of the EG. This action proposes the SSI Federal Plan.

¹ Several states did not submit plans to the EPA by this date.

On August 20, 2013, the U.S. Court of Appeals for the District of Columbia Circuit (the Court) remanded portions of the 2011 SSI rules for further explanation. National Ass'n. of Clean Water Agencies v. EPA, 734 F.3d 1115. The Court did not vacate the NSPS or EG, and, therefore, the requirements of the rules remain in place. The EPA is evaluating the Court's decision and intends to address the Court's remand in a timely manner. However, the court's remand requires EPA to provide additional explanation of several aspects of its MACT floor calculations in the SSI rule, and the Agency's response to the decision may require further evaluation of those calculations. In the meantime, the agency believes it is appropriate to propose the Federal Plan at this time because the SSI rule remains in place following the Court's decision and the federal plan is needed to implement the rule in states without an approved state plan. In this proposal, the EPA is soliciting public comment only on the implementation of the SSI EG through the proposed Federal Plan. The EPA will not address comments on the underlying SSI rule.

B. What is the purpose of this proposed rule?

Section 129 of the CAA relies upon states as the preferred implementers of EG for existing SSI. States with existing SSI are to submit to the EPA within 1 year following promulgation of the EG state plans that are at least as protective as the EG. The EPA must develop, implement and enforce a Federal Plan within 2 years following promulgation of the EG for sources in states which have not submitted an approvable plan. The Federal Plan is an interim measure to ensure that emissions standards are implemented until states assume their role as the preferred implementers of the EG.

States without any existing SSI are directed to submit to the Administrator a letter of negative declaration certifying that there are no SSI in the state. No plan is required for states that do not have any SSI. SSI located in states that mistakenly submit a letter of negative declaration would be subject to the Federal Plan until a state plan covering those SSI becomes approved. State plans that have been submitted to implement the EG adopted on March 21, 2011, are currently undergoing EPA review. This action proposes the SSI Federal Plan to implement the EG adopted on March 21, 2011, for those states that did not have an approved state plan in place by March 21, 2012.

Sections 111 and 129 of the CAA and 40 CFR 60.27(c) and (d) require the EPA to develop, implement and enforce a Federal Plan to cover existing SSI located in states that do not have an approved plan within 2 years after promulgation of the EG (by March 21, 2013). The EPA is proposing the SSI Federal Plan now so that a promulgated Federal Plan will go into place for any such states, and, thus, ensuring implementation and enforcement of the SSI EG.

Incineration of sewage sludge causes the release of a wide array of air pollutants, some of which exist in the waste feed material and are released unchanged during combustion, and some of which are generated as a result of the combustion process itself.² The EPA estimated in the 2011 rule that once the state plans and Federal Plan become effective, a total emissions reduction of the regulated pollutants would occur as follows: Acid gases (i.e., HCl and SO2) about 450 tons per year (TPY), PM about 58 TPY, non-mercury metals (i.e., Pb and Cd) about 1.7 TPY and Hg about 4 pounds per year. The EPA also estimated that air pollution control devices installed to comply with the 2011 rule would also effectively reduce emissions of pollutants such as 7-Polycyclic Aromatic Hydrocarbons (7-PAH), chromium (Cr), manganese (Mn), nickel (Ni), and polychlorinated biphenyls (PCB).

² See 76 FR 51371-51375, 51396-51399 and 51399-51400 to reference the regulatory background, summary of final rule changes and impacts of the EG adopted on March 21, 2011.

C. What is the status of state plan submittals?

Sections 111(d) and 129(b)(3) of the CAA, 42 U.S.C. 7411(d) and 7429(b)(3), authorize and require the EPA to develop and implement a Federal Plan for SSI located in states with no approved and effective state plan. The status of the state plans as of this proposal is outlined in the following table.

Table 2—Status of State Plans
Status | States
I. States with EPA-Approved State Plans | Indiana.
II. States Anticipated to Submit Negative Declarations to the EPA | Huntsville, Alabama; Jefferson County, Alabama; Kentucky; Jefferson County, Kentucky; Mississippi; Tennessee; Montana; Pima County, Arizona; Pinal County, Arizona; Hawaii; Washoe County, Nevada; American Samoa; Guam; Oregon.
III. Negative Declaration Submitted/EPA Approved | Maine; Vermont; District of Columbia; Delaware; Philadelphia County, Pennsylvania; West Virginia; Alabama; Arkansas; City of Albuquerque, New Mexico; New Mexico; Oklahoma; Texas; Nebraska; Colorado; North Dakota; South Dakota; Wyoming Arizona; Idaho.
IV. Final State Plans Submitted to the EPA | New York; Florida; Georgia; South Carolina.
V. Draft States Plans Submitted to the EPA | Puerto Rico; Virginia; Missouri.
VI. States from which the EPA has not received a draft or final plan or negative declaration | Rhode Island; Virgin Islands; Huntsville, Alabama; Jefferson County, Alabama; Kentucky; Jefferson County, Kentucky; Mississippi; North Carolina; Forsyth County, North Carolina; Mecklenburg County, North Carolina; Buncombe County, North Carolina; Tennessee; Minnesota; Louisiana; Iowa; Kansas; Utah; Montana; Pima County, Arizona; Pinal County, Arizona; California; Hawaii; Washoe County, Nevada; American Samoa; Guam; Alaska; Oregon; Washington.
VII. States Anticipated to Accept Delegation of Federal Plan | Connecticut; Massachusetts; New Hampshire; New Jersey; Maryland; Pennsylvania; Allegheny County, Pennsylvania; Illinois; Michigan; Ohio; Wisconsin; Maricopa County, Arizona; Nevada; Clark County, Nevada.

The preamble of the final Federal Plan will list states that have an EPA-approved plan in effect on the date the final Federal Plan is signed by the EPA Administrator. As Regional Offices approve state plans, they will also, in the same action, amend the appropriate subpart of 40 CFR part 62 to codify their approvals.

The EPA will maintain a list of state plan submittals and approvals on the TTN Air Toxics Web site at http://www.epa.gov/airtoxics/129/ssi/ssipg.html. The list will help SSI owners or operators determine whether their SSI is affected by a state plan or the Federal Plan.

Sewage sludge incinerator owners and operators can also contact the EPA Regional Office for the state in which their SSI is located to determine whether there is an approved and effective state plan in place. Table 3 lists the names, email addresses and telephone numbers of the EPA Regional Office contacts and the states and protectorates that they cover.

Table 3—Regional Office Contacts
Region | Regional contact | Phone | States and protectorates
Region I | Patrick Bird, bird.patrick@epa.gov | (617) 918-1287 | Connecticut, Massachusetts, Maine, New Hampshire, Rhode Island, Vermont.
Region II | Ted Gardella, gardella.anthony@epa.gov | (212) 637-3892 | New York, New Jersey, Puerto Rico, Virgin Islands.
Region III | Mike Gordon, gordon.mike@epa.gov | (215) 814-2039 | Virginia, Delaware, District of Columbia, Maryland, Pennsylvania, West Virginia.
Region IV | Stan Kukier, Kukier.stan@epa.gov. | (404) 562-9046 | Florida, Georgia, North Carolina, Alabama, Kentucky, Mississippi, South Carolina, Tennessee.
Region V | Margaret Sieffert, sieffert.margaret@epa.gov | (312) 353-1151 | Minnesota, Wisconsin, Illinois, Indiana, Michigan, Ohio.
Region VI | Steve Thompson, thompson.steve@epa.gov | (214) 665-2769 | Arkansas, Louisiana, New Mexico, Oklahoma, Texas.
Region VII | Lisa Hanlon, hanlon.lisa@epa.gov | (913) 551-7599 | Iowa, Kansas, Missouri, Nebraska.
Region VIII | Kendra Morrison, Morrison.kendra@epa.gov | (303) 312-6145 | Colorado, Montana, North Dakota, South Dakota, Utah, Wyoming.
Region IX | Joseph Lapka, lapka.joseph@epa.gov | (415) 947-4226 | Arizona, California, Hawaii, Nevada, American Samoa, Guam, Northern Mariana Islands.
Region X | Heather Valdez, valdez.heather@epa.gov | (206) 553-6220 | Alaska, Idaho, Oregon, Washington.

III. Affected Facilities

A. What is a sewage sludge incinerator?

The term “SSI” means any unit ³ that combusts any amount of sewage sludge located at a wastewater treatment facility designed to treat domestic sewage sludge, as defined in 40 CFR part 62, subpart LLL. The affected facility is each individual SSI unit. The Federal Plan defines two subcategories for existing SSI units in 40 CFR part 62.16045 of subpart LLL: Multiple hearth (MH) incinerators and fluidized bed (FB) incinerators.

³ An SSI unit is an enclosed device or devices using controlled flame combustion that burns sewage sludge for the purpose of reducing the volume of the sewage sludge by removing combustible matter. An SSI unit also includes, but is not limited to, the sewage sludge feed system, auxiliary fuel feed system, grate system, flue gas system, waste heat recovery equipment, if any, and bottom ash system. The SSI unit includes all ash handling systems connected to the bottom ash handling system. The combustion unit bottom ash system ends at the truck loading station or similar equipment that transfers the ash to final disposal. The SSI unit does not include air pollution control equipment or the stack. 40 CFR 60.5250.

The combustion of sewage sludge that is not burned in an SSI unit located at a wastewater treatment facility designed to treat domestic sewage sludge may be subject to other standards under the CAA.

B. Does the Federal Plan apply to me?

The Federal Plan would apply to the owner or operator of an affected SSI unit and the device is not covered by an approved and effective state plan as of March 21, 2012. The Federal Plan would cover SSI until the EPA approves a state plan that covers SSI and that plan becomes effective.

If the construction of an SSI unit began on or before October 14, 2010, it would be considered an existing SSI and could be subject to the Federal Plan. If the construction of an SSI unit began after October 14, 2010, or modification of an SSI unit began after September 21, 2011, it would be considered a new SSI and would be subject to the NSPS.

Any existing SSI would be subject to this Federal Plan, if, on the effective date of the Federal Plan, the EPA has not approved a state plan implementing the EG that covers an SSI unit or the EPA-approved state plan has not become effective. The specific applicability of the proposed Federal Plan is described in 40 CFR 62.15855 through 62.15870 of subpart LLL. The Federal Plan would become effective 30 days after final promulgation.

Once an approved state plan is in effect, the Federal Plan would no longer apply to SSI covered by an approved state plan. An approved state plan is a plan developed by a state that the EPA has reviewed and approved based on the requirements in 40 CFR part 60, subpart B, to implement 40 CFR part 60, subpart MMMM. The state plan is effective on the date specified in the notice published in the Federal Register announcing the EPA's approval of the plan.

The EPA's promulgation of an SSI Federal Plan will not preclude states from submitting a plan. If a state submits a plan after the promulgation of the SSI Federal Plan, the EPA will review and approve or disapprove the state plan. If the EPA approves a plan, then the SSI Federal Plan no longer applies to SSI covered by the state plan. If an SSI were overlooked by a state and the state submitted a negative declaration letter, or if an individual SSI were not covered by an approved and effective state plan, the SSI would be subject to this Federal Plan.

C. How do I determine if my SSI is covered by an approved and effective state plan?

Part 62 of Title 40 of the CFR identifies the status of approval and promulgation of CAA section 111(d) and CAA section 129 state plans for designated facilities in each state. However, 40 CFR part 62 is updated only once per year. Thus, if 40 CFR part 62 does not indicate that your state has an approved and effective plan, you should contact your state environmental agency's air director or your EPA Regional Office (see Table 3 in section II.C of this preamble) to determine if approval occurred since publication of the most recent version of 40 CFR part 62.

IV. Elements of the SSI Federal Plan

The basic elements of the Federal Plan include: (1) Identification of legal authority and mechanisms for implementation; (2) inventory of SSI; (3) emissions inventory; (4) compliance schedules; (5) emissions limits and operating limits; (6) operator training and qualification; (7) testing, monitoring, recordkeeping and reporting; (8) public hearing; and (9) progress reporting. See 40 CFR part 62, subparts LLL and sections 111 and 129 of the CAA. Below, we explain the proposed Federal Plan elements in detail.

A. Legal Authority and Enforcement Mechanism

Section 301(a) of the CAA provides the EPA with broad authority to write regulations that carry out the functions of the CAA. Sections 111(d) and 129(b)(3) of the CAA direct the EPA to develop a Federal Plan for states that do not submit approvable state plans. Sections 111 and 129 of the CAA provide the EPA with the authority to implement and enforce the Federal Plan in cases where the state fails to submit a satisfactory state plan. Section 129(b)(3) of the CAA requires the EPA to develop, implement and enforce a Federal Plan within 2 years after the date the relevant EG are promulgated (by March 21, 2013, for the 2011 SSI EG). Compliance with the EG cannot be later than 5 years after the relevant EG are promulgated (by March 21, 2016, for the 2011 SSI EG).

B. Inventory of Affected SSI

In Docket No. EPA-HQ-OAR-2012-0319, today's proposed Federal Plan includes an inventory of the SSI that may potentially be covered by this Federal Plan in the absence of approved state plans. (See 40 CFR 62.15870.) This inventory contains 185 SSI in 25 states. It is based on information collected from EPA Regions, states, SSI facilities, and review of existing SSI inventories, Title V permits, emissions test reports and facility Web sites. The EPA recognizes that this list may not be complete. Therefore, sources potentially subject to this proposed Federal Plan may include, but are not limited to, the SSI listed in Docket No. EPA-HQ-OAR-2012-0319. Any SSI that meets the applicability criteria in the proposed Federal Plan rule would be subject to the Federal Plan, regardless of whether it is listed in the inventory. States or individuals are invited to identify additional sources for inclusion to the list during the comment period for this proposal.

C. Inventory of Emissions

This proposed Federal Plan includes an emissions estimate for existing SSI. The pollutants inventoried are Cd, CO, PCDD/PCDF, HCl, Pb, Hg, PM, NOX and SO2. For this proposal, the EPA has estimated the emissions from each known SSI that potentially may be covered by the proposed Federal Plan for the nine pollutants regulated by the EG and covered by the proposed Federal Plan.

The emissions inventory is based on available information about the SSI and typical emissions rates developed for calculating nationwide air impacts of the EG. Refer to the inventory memorandum in Docket No. EPA-HQ-OAR-2012-0319 for the complete updated emissions inventory.We are soliciting comments on additional data regarding the emission inventory for existing SSI.

D. Compliance Schedules

Owners or operators of affected SSI units must comply within 1 year from state plan approval or, in the case of the Federal Plan, within 1 year of promulgation of the Federal Plan. Increments of progress are required for SSI that need more than 1 year from state plan approval to comply, or, in the case of the Federal Plan, more than 1 year after promulgation of the final Federal Plan. (See 40 CFR 62.15875 through 62.15915.) The two proposed increments of progress are included to ensure that each SSI needing more time to comply is making progress toward meeting the emissions limits.

The proposed Federal Plan includes defined and enforceable dates for completion of each increment. These increments of progress are: (1) Submit final control plan; and (2) final compliance.

E. Emissions Limits and Operating Limits

The proposed Federal Plan contains emissions limits that correspond to the 2011 SSI rule. (See 40 CFR 62.15955 through 62.16010.) The emissions limits in this proposed SSI Federal Plan are the same as those contained in the 2011 EG. (See proposed Table 5 of this preamble.)This action does not revise these limits. It is only intended to implement these limits for existing sources in states that have not adopted a state plan. Section V.B of this preamble discusses these emissions limits.

F. Operator Training and Qualification Requirements

The proposed Federal Plan requires that the owner or operator must qualify operators or their supervisors (at least one per facility) by ensuring that they complete an operator training course and annual review or refresher course. (See 40 CFR 62.15920 through 62.15950.) Today's proposed Federal Plan also contains operator training and qualification requirements that correspond to the 2011 EG.

G. Testing, Monitoring, Recordkeeping and Reporting Requirements

The proposed Federal Plan includes testing, monitoring, recordkeeping and reporting requirements. (See 40 CFR 62.16015 through 62.16040.) These proposed requirements correspond with the 2011 EG. Testing, monitoring, recordkeeping and reporting requirements will assure initial and ongoing compliance.

H. Record of Public Hearings

Today's proposed Federal Plan provides opportunity for public participation in adopting the plan. If requested to do so, the EPA will hold a public hearing in Research Triangle Park, NC. A record of the public hearing, if any, will appear in Docket No. EPA-HQ-OAR-2012-0319. If a public hearing is requested and held, the EPA may ask clarifying questions during the oral presentation, but will not respond to the presentations or comments at that time. Written statements and supporting information submitted during the public comment period will be considered with equivalent weight as any oral statement and supporting information subsequently presented at a public hearing, if held.

I. Progress Reports

Today's proposed Federal Plan requests that the EPA Regional Offices prepare annual progress reports to show the progress of SSI toward implementation of the EG. States that have been delegated the authority to implement and enforce this Federal Plan would be required to submit annual progress reports to the appropriate EPA Regional Office.

Each progress report must include the following items: (1) Status of enforcement actions; (2) status of increments of progress; (3) identification of sources that have shut down or started operation; (4) emissions inventory data for sources that were not in operation at the time of plan development but that began operation during the reporting period; (5) additional data as necessary to update previously submitted source and emissions information; and (6) copies of technical reports on any performance testing and monitoring.

J. Affirmative Defense to Malfunctions

The proposed Federal Plan does not include an affirmative defense to malfunction events. In the 2011 SSI rule, the EPA included an affirmative defense which provided that civil penalties would not be assessed if a source demonstrated in a judicial or administrative proceeding that it had met certain requirements.

However in 2014, the Court vacated such an affirmative defense in one of the EPA's CAA section 112(d) regulations. NRDC v. EPA, 749 F.3d 1055 (D.C. Cir. 2014) (vacating affirmative defense provisions in CAA section 112(d) rule establishing emission standards for Portland cement kilns). The Court found that the EPA lacked authority to establish an affirmative defense for private civil suits and held that under the CAA, the authority to determine civil penalty amounts lies exclusively with the Courts, not the EPA. Specifically, the Court found: “As the language of the statute makes clear, the courts determine, on a case-by-case basis, whether civil penalties are `appropriate.' ” See NRDC at 1063 (“U]nder this statute, deciding whether penalties are `appropriate' in a given private civil suit is a job for the courts, not EPA.”). In light of NRDC, the EPA's proposed Federal Plan for the SSI rule does not include the affirmative defense provision. The EPA intends to revise the SSI rule and remove the affirmative defense provision from the rule in the near future.

V. Summary of Proposed SSI Federal Plan Requirements

The proposed SSI Federal Plan requirements are described below. Table 4 lists each element and identifies where it is located or codified.

Table 4—Elements of the Proposed SSI Federal Plan
Element of the SSI Federal Plan | Location
Legal authority and enforcement mechanism | Sections 129(b)(3), 111(d), 301(a), and 301(d)(4) of the CAA.
Inventory of affected SSI units | Docket ID No. EPA-HQ-OAR-2012-0319.
Inventory of emissions | Docket ID No. EPA-HQ-OAR-2012-0319.
Compliance schedules | 40 CFR 62.15875 to 62.15915.
Emissions limits and operating limits | 40 CFR 62.15955 to 62.16010.
Operator training and qualification | 40 CFR 62.15920 to 62.15950.
Testing, monitoring, recordkeeping and reporting | 40 CFR 62.16015 to 62.16040.
Record of public hearings | Docket ID No. EPA-HQ-OAR-2012-0319.
Progress reports | Section V.B. of this preamble.

A. What are the proposed applicability requirements?

The proposed Federal Plan applicability reflects the 2011 EG. The proposed Federal Plan applies to existing SSI units meeting the applicability of 40 CFR 62.15855 that are located in any state that does not currently have an approved state plan in place. Existing SSI are considered to be all SSI units for which construction commenced on or before October 14, 2010. All SSI units for which construction commenced after October 14, 2010, or for which modification commenced after September 21, 2011, are considered “new” sources subject to NSPS emissions limits (40 CFR part 60, subpart LLLL).

The Federal Plan requirements apply to owners and/or operators of SSI units (as defined in 40 CFR 62.16045) located at wastewater treatment facilities designed to treat domestic sewage sludge. Two subcategories are defined for existing units: MH incinerators and FB incinerators. The combustion of sewage sludge that is not burned in an SSI unit located at a wastewater treatment facility designed to treat domestic sewage sludge may be subject to other incineration standards.

B. What are the proposed compliance schedules?

Today's proposed Federal Plan requires owners or operators of SSI to either: (1) Come into compliance with the plan within 1 year after the plan is promulgated; or (2) meet increments of progress and come into compliance by March 21, 2016. Increments of progress are necessary in order to ensure that SSI needing more time to comply are making progress toward meeting the emissions limits and will be in compliance by the required date. This proposed Federal Plan includes two increments of progress (See 40 CFR 62.15875 through 62.15915), along with defined and enforceable dates for completion of each increment.

The SSI owner or operator must meet each of the two increments of progress for each SSI no later than the applicable compliance date for each increment. In addition, the owner or operator must notify the EPA and permitting authority or delegated authority as each increment of progress is achieved, as well as when any is missed. The notification must identify the increment and the date the increment is achieved (or missed). If an owner or operator misses an increment deadline, the owner or operator must also notify the EPA and permitting authority or delegated authority when the increment is achieved. The owner or operator must mail the notification to the applicable EPA Regional Office and permitting authority or delegated authority within 10 business days after the increment date that is defined in the Federal Plan. (See Table 3 under section II.C.of this preamble for a list of EPA Regional Offices.)

The definition of each increment of progress, along with its required completion date, follows.

Submit Final Control Plan. To meet this increment, the owner or operator of each SSI must submit a plan that includes a description of the devices for air pollution control and process changes that will be used to comply with the emissions limits and standards and other requirements of this subpart, a description of the type(s) of waste to be burned (if other than sewage sludge is burned in the unit), the maximum design sewage sludge burning capacity, and, if applicable, the petition for site-specific operating limits under 40 CFR 62.15965. A copy of the final control plan must be maintained onsite. A final control plan is not required for units that will be shut down prior to the final control plan submittal date.

Completion date: [3 months from date of publication of the final rule in the Federal Register].

Final Compliance. To be in final compliance means to complete all process changes and retrofit construction of control devices as specified in the final control plan, so that if the SSI is brought online, all necessary process changes and air pollution control devices are operating as designed.

Completion date: March 21, 2016.

The EPA developed this schedule using the EPA guidance drafted for enabling states to draft state plans and set increments of progress. The 2010 State Implementation Guidance Document is available in this rulemaking docket and through the EPA's TTN at http://www.epa.gov/ttnatw01/129/hmiwi/epa453b10001_hmiwi.pdf.

If an SSI does not achieve final compliance by March 21, 2016, the proposed Federal Plan requires the SSI to shut down by March 21, 2016, complete the retrofit while not operating and be in compliance upon restarting. An SSI that operates out of compliance after the final compliance date would be in violation of the Federal Plan and subject to enforcement action.

C. What are the proposed emissions limits and operating limits?

This action proposes to incorporate the EG emissions and operating limits into the SSI Federal Plan. Table 5 of this preamble summarizes the EG emissions limits promulgated. Existing sources may comply with either the PCDD/PCDF toxicity equibalance or total mass balance emission limits. These standards apply at all times. Facilities will be required to establish site-specific operating limits derived from the results of performance testing. The site-specific operating limits are established as the minimum (or maximum, as appropriate) operating parameter value measured during the performance test. These operating limits will result in achievable operating ranges that will ensure that the control devices used for compliance will be operated to achieve continuous compliance with the emissions limits. Further discussion on performance testing can be found in section V.D.of this preamble.

Table 5—Summary of EG Emissions Limits Promulgated For Existing SSI
Pollutant | Units | Emission limit for MH incinerators | Emission limit for FB incinerators
Cd | milligrams per dry standard cubic meter @7 percent Oxygen | 0.095 | 0.0016.
CO | parts per million of dry volume @7 percent Oxygen | 3,800 | 64.
HCl | parts per million of dry volume @7 percent Oxygen | 1.2 | 0.51.
Hg | mg/dscm @7% 02 | 0.28 | 0.037.
NOX | parts per million of dry volume @7 percent Oxygen | 220 | 150.
Pb | milligrams per dry standard cubic meter @7 percent Oxygen | 0.30 | 0.0074.
PCDD/PCDF, TEQ | nanograms per dry standard cubic meter @7 percent Oxygen | 0.32 | 0.10.
PCDD/PCDF, TMB | nanograms per dry standard cubic meter @7 percent Oxygen | 5.0 | 1.2.
PM | milligrams per dry standard cubic meter @7 percent Oxygen | 80 | 18.
SO2 | parts per million of dry volume @7 percent Oxygen | 26 | 15.
Fugitive emissions from ash handling | Percent of the hourly observation period | Visible emissions of combustion ash from an ash conveying system (including conveyor transfer points) for no more than 5 percent of any compliance test hourly observation period | Visible emissions of combustion ash from an ash conveying system (including conveyor transfer points) for no more than 5 percent of any compliance test hourly observation period.

D. What are the proposed performance testing and monitoring requirements?

The following paragraphs list a number of testing and monitoring requirements in the 2011 EG that are proposed to be incorporated into the SSI Federal Plan in today's action.

1. Performance Testing

The proposed performance testing provisions reflect those in the SSI EG. First, today's proposed Federal Plan requires all existing SSI units to demonstrate initial and annual compliance with the emission limits using EPA-approved emission test methods. Additionally, there is a proposed option for less frequent testing if sources demonstrate that their emissions of regulated pollutants are below thresholds of the emission limits.

This proposal requires initial and annual emissions performance tests (or continuous emissions monitoring or continuous sampling as an alternative), bag leak detection systems for fabric filter (FF) controlled units, and continuous parameter monitoring, if they are used to meet the emission limits. All SSI are also required to conduct initial and annual inspections of air pollution control devices. Additional monitoring includes the Method 22 (see 40 CFR part 60, appendix A-7) visible emissions test of the ash handling operations during each compliance test to demonstrate compliance with the visible emissions limit. For existing SSI units, use of Cd, CO, HCl, NOX, PM, Pb or SO2 Continuous Emissions Monitoring Systems (CEMS); Integrated Sorbent Trap Mercury Monitoring System (ISTMMS); and Integrated Sorbent Trap Dioxin Monitoring System (ISTDMS) (continuous sampling with periodic sample analysis) are approved alternatives to parametric monitoring and annual compliance testing.

Second, today's proposed Federal Plan allows sources to use results of their previous emissions tests to meet the initial compliance performance test requirement if those tests were conducted within the 2 previous years and were conducted under the same conditions. The operating limits established during the most recent performance test that demonstrated initial compliance with the emissions limits must be met.

Third, today's proposed Federal Plan incorporates by reference two alternatives to the EPA reference test methods, ANSI/ASME PTC 19.10-1981, Flue and Exhaust Gas Analyses and ASTM D6784-02, Standard Test Method for Elemental, Oxidized, Particle Bound and Total Mercury Generated from Coal-Fired Stationary sources (Ontario-Hydro Method). These tests are discussed further in section IX.I.titled, “National Technology Transfer and Advancement Act (NTTAA),” of this preamble.

2. Monitoring

Monitoring of operating limits can be used to indicate whether air pollution control equipment and practices are functioning properly to minimize air pollution. The 2011 EG and today's proposed Federal Plan include the following parameter monitoring requirements for good combustion, wet scrubbers, afterburners, electrostatic precipitators (ESP), activated carbon injection (ACI) or FF:

• All units must establish a minimum operating temperature or afterburner temperature, site specific operating requirements for fugitive ash, and monitor feed rate and moisture content of the sludge.

• If using a scrubber to comply with the emissions limits for PM, Pb and Cd, continuously monitor minimum pressure drop.

• If using a scrubber to comply with any of the emissions limits, continuously monitor minimum scrubber liquid flow rate.

• If using a scrubber to comply with the emissions limits for SO2 or HCl, continuously monitor minimum scrubber liquid pH.

• If using an afterburner to comply with the emissions limits, continuously monitor the minimum temperature of the afterburner combustion chamber.

• If using an ESP to comply with PM, Pb and Cd emissions limits, continuously monitor minimum power input to the ESP collection plates. Power input must be calculated as the product of the secondary voltage and secondary amperage to the ESP collection plates. Both the secondary voltage and secondary amperage must be recorded during the performance test.

• If using an ESP to comply with PM, Pb and Cd emissions limits, monitor hourly minimum effluent water flow rate at the outlet of the ESP.

• If using ACI to comply with the emissions limits, monitor hourly minimum Hg sorbent inject rate, minimum PCDD/PCDF sorbent injection rate, and continuously monitor minimum carrier gas flow rate or minimum carrier gas pressure drop for the applicable emission limit.

• If using a FF, install a bag leak detection system and operate the bag leak detection system such that the alarm does not sound more than 5 percent of the operating time during a 6-month period.

• If using something other than a wet scrubber, ESP, ACI, FF or afterburner, petition the Administrator for other site-specific operating parameters, operating limits, and averaging periods to be established during the initial performance test and continuously thereafter.

Owners or operators are not required to establish operating limits for the operating parameters for a control device if a Continuous Monitoring System (CMS) is used to demonstrate compliance with the emissions limits.

3. Electronic Data Submittal

In this proposal, the EPA is describing a process to increase the ease and efficiency of performance test data submittal while improving data accessibility. Specifically, the EPA is proposing that owners and operators of SSI facilities submit electronic copies of required performance test and performance evaluation reports by direct computer-to-computer electronic transfer using EPA-provided software. This mirrors the 2011 EG for SSI units. The direct computer-to-computer electronic transfer is accomplished through the EPA's Central Data Exchange (CDX) using the Compliance and Emissions Data Reporting Interface (CEDRI). The CDX is the EPA's portal for submittal of electronic data. The EPA-provided software is called the Electronic Reporting Tool (ERT) which is used to generate electronic reports of performance tests and evaluations. The ERT generates an electronic report package which will be submitted using the CEDRI. The submitted report package will be stored in the CDX archive (the official copy of record) and the EPA's public database called WebFIRE. All stakeholders will have access to all reports and data in WebFIRE and accessing these reports and data will be very straightforward and easy (see the WebFIRE Report Search and Retrieval link at http://cfpub.epa.gov/webfire/index.cfm?action=fire.searchERTSubmission). A description and instructions for use of the ERT can be found at http://www.epa.gov/ttn/chief/ert/index.html and CEDRI can be accessed through the CDX Web site (www.epa.gov/cdx). A description of the WebFIRE database is available at: http://cfpub.epa.gov/oarweb/index.cfm?action=fire.main.

The proposal to submit performance test data electronically to the EPA applies only to those performance tests (and/or performance evaluations) conducted using test methods that are supported by the ERT. The ERT supports most of the commonly used EPA reference methods. A listing of the pollutants and test methods supported by the ERT is available at: http://www.epa.gov/ttn/chief/ert/index.html.

Similarly described in the 2011 EG for SSI units, we believe that industry would benefit from this proposed approach to electronic data submittal. Specifically, by using this approach, industry will save time in the performance test submittal process. Additionally, the standardized format that the ERT uses allows sources to create a more complete test report resulting in less time spent on data backfilling if a source failed to include all data elements required to be submitted. Also, through this proposal, industry may only need to submit a report once to meet the requirements of the applicable subpart because stakeholders can readily access these reports from the WebFIRE database. This also benefits industry by reducing on recordkeeping costs as the performance test reports that are submitted to the EPA using CEDRI are no longer required to be retained in hard copy, thereby, reducing staff time needed to coordinate these records.

Since the EPA will already have performance test data in hand, another benefit to industry is that fewer or less substantial data collection requests in conjunction with prospective required residual risk assessments or technology reviews will be needed. This would result in a decrease in staff time needed to respond to data collection requests.

State, local and tribal air pollution control agencies may also benefit from having electronic versions of the reports they are now receiving. For example, state, local and tribal air pollution control agencies may be able to conduct a more streamlined and accurate review of electronic data submitted to them. For example, the ERT would allow for an electronic review process, rather than a manual data assessment, and, therefore, making review and evaluation of the source provided data and calculations easier and more efficient. In addition, the public will stand to benefit from electronic reporting of emissions data because the electronic data will be easier for the public to access. How the air emissions data are collected, accessed and reviewed will be more transparent for all stakeholders.

One major advantage of the proposed submittal of performance test data through the ERT is a standardized method to compile and store much of the documentation required to be reported by this rule. The ERT clearly states what testing information would be required by the test method and has the ability to house additional data elements that might be required by a delegated authority.

In addition, the EPA must have performance test data to conduct effective reviews of CAA sections 111, 112 and 129 standards, as well as for many other purposes including compliance determinations, emission factor development and annual emission rate determinations. In conducting these required reviews, the EPA has found it ineffective and time consuming, for both EPA and regulatory agencies and source owners and operators, to locate, collect and submit performance test data. In recent years, though, stack testing firms have typically collected performance test data in electronic format, making it possible to move to an electronic data submittal system that would increase the ease and efficiency of data submittal and improve data accessibility.

A common concern raised by industry and regulators is that emission factors are outdated or not representative of a particular source category. With timely receipt and incorporation of data from most performance tests, the EPA would be able to ensure that emission factors, when updated, represent the most current range of operational practices. Finally, another benefit of the proposed data submittal to WebFIRE electronically is that these data would greatly improve the overall quality of existing and new emissions factors by supplementing the pool of emissions test data for establishing emissions factors.

In summary, in addition to supporting regulation development, control strategy development and other air pollution control activities, having an electronic database populated with performance test data would save industry, state, local, tribal agencies and the EPA significant time, money and effort while also improving the quality of emission inventories and air quality regulations.

E. What are the proposed recordkeeping and reporting requirements?

Today's action proposes recordkeeping and reporting requirements which reflect those finalized in the 2011 EG. Today's proposed Federal Plan requires that records of all initial and all subsequent stack or performance specification (PS) tests, deviation reports, operating parameter data, continuous monitoring data, maintenance and inspections of air pollution control devices, monitoring plan, and operator training and qualification must be maintained for 5 years. The results of the stack tests and PS test and values for operating parameters are required to be included in initial and subsequent compliance reports. Any incident of deviation, resumed operation following shutdown, force majeure, intent to stop or start use of CMS, and intent of conducting or rescheduling a performance test are required to be reported to the Administrator. Furthermore, increments of progress reports are required following the completion of each increment of progress and identifying any missed increment of progress. See section V.B of this preamble for a more detailed discussion of the increments of progress and compliance schedules.

F. What other requirements is the EPA proposing?

This action proposes other requirements that reflect those finalized in the 2011 EG. First, owners and operators of existing SSI units are required to meet operator training and qualification requirements, which include: Ensuring that at least one operator or supervisor per facility complete the operator training course, that qualified operator(s) or supervisor(s) complete an annual review or refresher course specified in the regulation and that they maintain plant-specific information, updated annually, regarding training.

Second, owners or operators of existing SSI are required to submit a monitoring plan for any CMS or bag leak detection system used to comply with the rule. Third, they must also submit a monitoring plan for their ash handling system that specifies the operating procedures they will follow to ensure that they meet the fugitive ash emissions limit.

VI. SSI That Have or Will Shut Down

A. Units That Plan To Close Rather Than Comply

The proposed Federal Plan establishes that if owners or operators plan to permanently close currently operating SSI, they must do so and submit a closure notification to the Administrator by the date the final control plan is due. The requirements for closing SSI unit rather than complying with the rule under today's proposal will be set forth at 40 CFR 62.15915 of subpart LLL. Until such time as a unit is permanently closed, it must comply with any applicable requirements of the Federal Plan.

If an SSI unit continues to operate 1 year after publication of the final Federal Plan in the Federal Register, then it must comply with all aspects of this Federal Plan by the date 1 year after publication of the final action. In addition, while still in operation, the SSI unit is subject to the same requirements for Title V operating permits that apply to units that will not shut down.

B. Inoperable Units

Today's proposed Federal Plan provides that in cases where an SSI has already shut down permanently and has been rendered inoperable (e.g., waste charge door is welded shut, stack is removed, combustion air blowers removed, burners or fuel supply appurtenances are removed, the SSI may be left off the source inventory in a state plan or this proposed Federal Plan. An SSI that has been rendered inoperable would not be covered by the Federal Plan.

C. SSI That Have Shut Down

Today's Federal Plan proposal includes any SSI that are known to have already shut down (but are not known to be inoperable) in the source inventory . . .

1. Restarting Before the Final Compliance Date

If the owner or operator of an inactive SSI plans to restart before the final compliance date, the owner or operator must meet the increments of progress specified in the Federal Plan. Final compliance is required for all pollutants and all SSI no later than the final compliance date.

2. Restarting After the Final Compliance Date

Under this proposed Federal Plan, if the owner or operator of an SSI closes the SSI unit, but restarts the unit after the final compliance date, the owner or operator must complete emission control retrofits and meet the emissions and operating limits on the date the SSI unit restarts operation. Within 6 months of the unit startup, operator(s) of these SSI would have to complete the operator training and qualification requirements. Within 60 days of installing an air pollution control device, operator(s) must conduct a unit inspection. Performance testing to demonstrate initial compliance would also be required as described at 40 CFR 62.15980. There is no need to show that the increments of progress have been met since these steps would have occurred before restart while the SSI was shut down and not generating emissions. AN SSI that operates out of compliance after the final compliance date would be in violation of the Federal Plan and subject to enforcement action.

VII. Implementation of the Federal Plan and Delegation

A. Background of Authority

Under sections 111(d) and 129(b) of the CAA, the EPA is required to adopt EG that are applicable to existing solid waste incineration units. These EG are fully implemented when the EPA approves a state plan or adopts a Federal Plan that implements and enforces the EG. As discussed above, the Federal Plan regulates SSI in states that do not have approved plans in effect to implement the EG.

Congress has determined that the primary responsibility for air pollution prevention and control rests with state and local agencies. (See section 101(a)(3) of the CAA.) Consistent with that overall determination, Congress established sections 111 and 129 of the CAA with the intent that the state and local agencies take the primary responsibility for ensuring that the emissions limitations and other requirements in the EG are achieved. Also, in section 111(d) of the CAA, Congress explicitly required that the EPA establish procedures that are similar to those under CAA section 110(c) for state implementation plans. Although Congress required the EPA to propose and promulgate a Federal Plan for states that fail to submit approvable state plans on time, states may submit plans after promulgation of the SSI Federal Plan. The EPA strongly encourages states that are unable to submit approvable plans to request delegation of the Federal Plan so that they can have primary responsibility for implementing the revised EG, consistent with the intent of Congress.

Approved and effective state plans or delegation of the Federal Plan is the EPA's preferred outcome because the EPA believes that state, tribal, and local agencies not only have the responsibility to carry out the revised EG, but also have the practical knowledge and enforcement resources critical to achieving the highest rate of compliance. It is generally preferable for the state and local agencies to be the implementing agency. For these reasons, the EPA will do all that it can to expedite delegation of the Federal Plan to state and local agencies, whenever possible, in cases where states are unable to develop and submit approvable state plans.

B. Delegation of the Federal Plan and Retained Authorities

If a state or tribe intends to take delegation of the Federal Plan, the state or tribe should submit to the appropriate EPA Regional Office a written request for delegation of authority. The state or tribe should explain how it meets the criteria for delegation. See generally “Good Practices Manual for Delegation of NSPS and NESHAP” (EPA, February 1983). The letter requesting delegation of authority to implement the Federal Plan should: 1. demonstrate that the state or tribe has adequate resources, as well as the legal and enforcement authority to administer and enforce the program, 2. include an inventory of affected SSI units, which includes those that have ceased operation, but have not been dismantled, include an inventory of the affected units' air emissions and a provision for state progress reports to the EPA, 3. certify that a public hearing is held on the state delegation request, and 4. include a memorandum of agreement between the state or tribe and the EPA that sets forth the terms and conditions of the delegation, the effective date of the agreement and the mechanism to transfer authority. Upon signature of the agreement, the appropriate EPA Regional Office would publish an approval notice in the Federal Register, thereby incorporating the delegation of authority into the appropriate subpart of 40 CFR part 62.

If authority is not delegated to a state or tribe, the EPA will implement the Federal Plan. Also, if a state or tribe fails to properly implement a delegated portion of the Federal Plan, the EPA will assume direct implementation and enforcement of that portion. The EPA will continue to hold enforcement authority along with the state or tribe even when a state or tribe has received delegation of the Federal Plan. In all cases where the Federal Plan is delegated, the EPA will retain and will not transfer authority to a state or tribe to approve the following items promulgated in the 2011 SSI rules:

1. Alternatives to the emissions limits in Table 5 of this

2. Approval of major alternatives to monitoring;

3. Approval of major alternatives to recordkeeping and reporting;

4. Alternative site-specific operating parameters established by facilities using controls other than a scrubber, ESP, afterburner, ACI or FF;

5. Approval of operation of an SSI unit and receipt of status reports when a qualified operator is not accessible for 2 weeks or more; and

6. Performance test and data reduction waivers under 40 CFR 60.8(b).

Today's proposed Federal Plan also specifies that SSI owners or operators who wish to petition the agency for any alternative requirement should submit a request to the Regional Administrator with a copy sent to the appropriate state.

C. Mechanisms for Transferring Authority

There are two mechanisms for transferring implementation authority to state, tribal, and local agencies: 1. The EPA approval of a state plan after the Federal Plan is in effect; and 2. if a state does not submit or obtain approval of its own plan, the EPA delegation to a state of the authority to implement certain portions of this Federal Plan to the extent appropriate and if allowed by state law. Both of these options are described in more detail below.

1. Federal Plan Becomes Effective Prior to Approval of a State Plan

After SSI in a state become subject to the Federal Plan, the state or local agency may still adopt and submit a plan to the EPA. If the EPA determines that the state plan is as protective as the EG, the EPA will approve the state plan. If the EPA determines that the plan is not as protective as the EG, the EPA will partially approve or disapprove the plan (or portion of the plan) and the SSI covered in the state plan would remain subject to the Federal Plan until a state plan covering those SSI is approved and effective. Prior to disapproval, the EPA will work with states to attempt to reconcile areas of the plan that remain not as protective as the EG.

Upon the effective date of a state plan, the Federal Plan would no longer apply to SSI covered by such a plan and the state or local agency would implement and enforce the state plan in lieu of the Federal Plan. When an EPA Regional Office approves a state plan, it will amend the appropriate subpart of 40 CFR part 62 to indicate such approval.

2. State Takes Delegation of the Federal Plan

The EPA, in its discretion, may delegate to state agencies the authority to implement this Federal Plan. As discussed above, the EPA believes that it is advantageous and the best use of resources for state or local agencies to agree to undertake, on the EPA's behalf, administrative and substantive roles in implementing the Federal Plan to the extent appropriate and where authorized by state law. If a state requests delegation, the EPA will generally delegate the entire Federal Plan to the state agency. These functions include administration and oversight of compliance reporting and recordkeeping requirements, SSI inspections and preparation of draft notices of violation, but will not include any authorities retained by the EPA. State agencies that have taken delegation, as well as the EPA, will have responsibility for bringing enforcement actions against sources violating Federal Plan provisions.

D. Implementing Authority

The EPA Regional Administrators have been delegated the authority for implementing the SSI Federal Plan. All reports required by the Federal Plan should be submitted to the appropriate Regional Administrator. Section II.C of this preamble includes Table 3 that lists names and addresses of the EPA Regional Office contacts and the states they cover.

VIII. Title V Operating Permits

All existing SSI units regulated under state or Federal Plans implementing the 2011 EG must apply for and obtain a Title V permit. These Title V operating permits assure compliance with all applicable requirements for regulated SSI units, including all applicable CAA section 129 requirements.⁴

⁴ 40 CFR 70.2, 70.6(a)(1), 71.2 and 71.6(a)(1).

The permit application deadline for a CAA section 129 source applying for a Title V operating permit depends on when the source first becomes subject to the relevant Title V permits program. For example, if the SSI unit is an existing unit and is not subject to an earlier permit application deadline, the source must submit a complete Title V permit application by the earliest of the following dates:

• Twelve months after the effective date of any applicable EPA-approved CAA sections 111(d)/129 plan (i.e., approved state or tribal plan that implements the SSI EG); or

• Twelve months after the effective date of any applicable Federal Plan; or

• Thirty-six months after promulgation of 40 CFR part 60, subpart MMMM, i.e., March 21, 2014.

For any existing SSI unit not subject to an earlier permit application deadline, the application deadline of March 21, 2014, applies regardless of whether or when any applicable Federal Plan is effective, or whether or when any applicable CAA sections 111(d)/129 plan is approved by the EPA and becomes effective. (See CAA sections 129(e), 503(c), 503(d), 502(a) and 40 CFR 70.5(a)(1)(i) and 71.5(a)(1)(i).)

If the SSI unit is subject to Title V as a result of some triggering requirement(s) other than those mentioned above (for example, an SSI unit may be a major source or part of a major source), then the owner/operator of the source may be required to apply for a Title V permit prior to the deadlines specified above. If more than one requirement triggers a source's obligation to apply for a Title V permit, the 12-month time frame for filing a Title V permit application is triggered by the requirement which first causes the source to be subject to Title V.⁵

⁵ CAA Section 503(c) and 40 CFR 70.3(a) and (b), 70.5(a)(1)(i), 71.3(a) and (b) and 71.5(a)(1)(i).

For more background information on the interface between CAA section 129 and Title V, including the EPA's interpretation of CAA section 129(e), as well as information on submitting Title V permit applications, updating existing Title V permit applications and reopening existing Title V permits, see the final Federal Plan for Commercial and Industrial Solid Waste Incinerators, October 3, 2003 (68 FR 57518, 57532). See also the final Federal Plan for Hospital Medical Infectious Waste Incinerators, August 15, 2000 (65 FR 49868, 49877).

A. Title V and Delegation of a Federal Plan

As noted previously, issuance of a Title V permit is not equivalent to the approval of a state plan or delegation of a Federal Plan.⁶ Legally, delegation of a standard or requirement results in a delegated state or tribe standing in for the EPA as a matter of federal law. This means that obligations a source may have to the EPA under a federally promulgated standard become obligations to a state (except for functions that the EPA retains for itself) upon delegation.⁷ Although a state or tribe may have the authority under state or tribal law to incorporate section 111/129 requirements into its Title V permits, and implement and enforce these requirements in these permits without first taking delegation of the section 111/129 Federal Plan, the state or tribe is not standing in for the EPA as a matter of federal law in this situation. Where a state or tribe does not take delegation of a section 111/129 Federal Plan, obligations that a source has to the EPA under the Federal Plan continue after a Title V permit is issued to the source. As a result, the EPA continues to maintain that an approved part 70 operating permits program cannot be used as a mechanism to transfer the authority to implement and enforce the Federal Plan from the EPA to a state or tribe.

⁶ See, e.g., the “Title V and Delegation of a Federal Plan” section of the proposed Federal Plan for Commercial Industrial Solid Waste Incinerators (CISWI), November 25, 2002 (67 FR 70640, 70652). The preamble language from this section in the proposed Federal Plan for CISWI was reaffirmed in the final Federal Plan for CISWI, October 3, 2003 (68 FR 57518, 57535).

⁷ If the Administrator chooses to retain certain authorities under a standard, those authorities cannot be delegated, e.g., alternative methods of demonstrating compliance.

As mentioned above, a state or tribe may have the authority under state or tribal law to incorporate CAA section 111/129 requirements into its Title V permits, and implement and enforce these requirements in that context without first taking delegation of the CAA section 111/129 Federal Plan.⁸ Some states or tribes, however, may not be able to implement and enforce a CAA section 111/129 standard in a Title V permit under state or tribal law until the CAA section 111/129 standard has been delegated. In these situations, a state or tribe should not issue a 40 CFR part 70 permit to a source subject to a Federal Plan before taking delegation of the section 111/129 Federal Plan.

⁸ The EPA interprets the phrase “assure compliance” in CAA section 502(b)(5)(A) to mean that permitting authorities will implement and enforce each applicable standard, regulation or requirement which must be included in the Title V permits the permitting authorities issue. See definition of “applicable requirement” in 40 CFR 70.2. See also 40 CFR 70.4(b)(3)(i) and 70.6(a)(1).

However, if a state or tribe can provide an Attorney General's (AG's) opinion delineating its authority to incorporate CAA section 111/129 requirements into its Title V permits, and then implement and enforce these requirements through its Title V permits without first taking delegation of the requirements, then a state or tribe does not need to take delegation of the CAA section 111/129 requirements for purposes of Title V permitting.⁹ In practical terms, without approval of a state or tribal plan, delegation of a Federal Plan, or an adequate AG's opinion, states and tribes with approved CFR 40 part 70 permitting programs open themselves up to potential questions regarding their authority to issue permits containing CAA section 111/129 requirements and to assure compliance with these requirements. Such questions could lead to the issuance of a notice of deficiency for a state's or tribe's CFR 40 part 70 program. As a result, prior to a state or tribal permitting authority drafting a part 70 permit for a source subject to a CAA section 111/129 Federal Plan, the state or tribe, the EPA Regional Office and source in question are advised to ensure that delegation of the relevant Federal Plan has taken place or that the permitting authority has provided to the EPA Regional Office an adequate AG's opinion.

⁹ It is important to note that an attorney general's opinion submitted at the time of initial Title V program approval is sufficient if it demonstrates that a state or tribe has adequate authority to incorporate CAA section 111/129 requirements into its Title V permits and to implement and enforce these requirements through its Title V permits without delegation.

In addition, if a permitting authority chooses to rely on an AG's opinion and not take delegation of a Federal Plan, a CAA section 111/129 source subject to the Federal Plan in that state must simultaneously submit to both the EPA and the state or tribe all reports required by the standard to be submitted to the EPA. Given that these reports are necessary to implement and enforce the CAA section 111/129 requirements when they have been included in Title V permits, the permitting authority needs to receive these reports at the same time as the EPA.

In the situation where a permitting authority chooses to rely on an AG's opinion and not take delegation of a Federal Plan, the EPA Regional Offices will be responsible for implementing and enforcing section CAA 111/129 requirements outside of any Title V permits. Moreover, in this situation, the EPA Regional Offices will continue to be responsible for developing progress reports and conducting any other administrative functions required under this Federal Plan or any other section CAA 111/129 Federal Plan. See, e.g., section V.B of this preamble titled “What are the proposed compliance schedules?”.

It is important to note that the EPA is not using its authority under 40 CFR part 70.4(i)(3) to request that all states and tribes which do not take delegation of this Federal Plan submit supplemental AG's opinions at this time. However, the EPA Regional Offices shall request, and permitting authorities shall provide, such opinions when the EPA questions a state's or tribe's authority to incorporate CAA section 111/129 requirements into a Title V permit and implement and enforce these requirements in that context without delegation.

IX. Statutory and Executive Order Reviews

Additional information about the Statutes and Executive Orders can be found at http://www2.epa.gov/laws-regulations/laws-and-executive-orders.

A. Executive Order 12866: Regulatory Planning and Review and Executive Order 13563: Improving Regulation and Regulatory Review

This action is not a significant regulatory action and was, therefore, not submitted to the Office of Management and Budget (OMB) for review.

B. Paperwork Reduction Act (PRA)

This action does not impose an information collection burden under the PRA. This action simply proposes the SSI Federal Plan to implement the EG adopted on March 21, 2011,¹⁰ for those states that do not have a state plan implementing the emission guidelines.

¹⁰ Section, 76 FR 15372, March 21, 2011.

C. Regulatory Flexibility Act (RFA)

I certify that this action will not have a significant economic impact on a substantial number of small entities under the RFA. This action will not impose any requirements on small entities. Emissions guidelines for owners of existing sewage sludge incineration units were established by the March 21, 2011, final rule and that rule was certified as not having a significant economic impact on a substantial number of small entities. This action merely establishes a Federal Plan to implement and enforce those requirements in those states that do not have their own EPA-approved state plan for implementing and enforcing the requirements.

D. Unfunded Mandates Reform Act (UMRA)

This action does not contain an unfunded mandate of $100 million or more as described in UMRA, 2 U.S.C. 1531-1538, and does not significantly or uniquely affect small governments. Therefore, this action imposes no enforceable duty or any state, local or tribal government or the private sector.

E. Executive Order 13132: Federalism

This action does not have federalism implications. It will not have substantial direct effects on the states or on the distribution of power and responsibilities among the various levels of government.

F. Executive Order 13175: Consultation and Coordination With Indian Tribal Governments

This action does not have tribal implications, as specified in Executive Order 13175. The EPA is not aware of any SSI owned or operated by Indian tribal governments. Thus, Executive Order 13175 does not apply to this proposed action.

G. Executive Order 13045: Protection of Children From Environmental Health Risks and Safety Risks

The EPA interprets Executive Order 13045 as applying to those regulatory actions that concern health or safety risks, that EPA has reason to believe may disproportionately affect children, per the definition of “covered regulatory action” in section 2-202 of the Executive Order. This action is not subject to Executive Order 13045 because it does not concern an environmental health risk or safety risk.

H. Executive Order 13211: Actions That Significantly Affect Energy Supply, Distribution, or Use

This action is not subject to Executive Order 13211 because it is not a significant regulatory action under Executive Orders 12866.

I. National Technology Transfer and Advancement Act (NTTAA) and 1 CFR Part 51

This action involves technical standards that are reasonably available and already widely used by industries and regulated parties. The EPA proposes to use ANSI/ASME PTC 19.10-1981, “Flue and Exhaust Gas Analyses,” for its manual methods of measuring the oxygen or carbon dioxide content of the exhaust gas. These parts of ASME PTC 19.10-1981 are acceptable alternatives to EPA Methods 6, 7 for the manual procedures only. This standard is available from the ASME, Three Park Avenue, New York, NY 10016-5990.

Another voluntary consensus standards (VCS), ASTM D6784-02 (Reapproved 2008), “Standard Test Method for Elemental, Oxidized, Particle-Bound and Total Mercury Gas Generated from Coal-Fired Stationary Sources (Ontario Hydro Method)” is an acceptable alternative to Method 29 and 30B. The EPA has also decided to use EPA Methods 5, 6, 6C, 7, 7E, 9, 10, l0A, l0B, 22, 23, 26A, 29 and 30B. No VCS were found for EPA Method 9 and 22.

While the EPA has identified 23 VCS as being potentially applicable to the proposed rule, we have decided not to use these VCS in this rulemaking. The use of these VCS would be impractical because they do not meet the objectives of the standards cited in this proposed rule. See the docket for the 2011 EG (Docket ID No. EPA-HQ-OAR-2009-0539), which is being implemented under today's proposed action, for the reason for these determinations.

Under 40 CFR 62.16050, the EPA Administrator retains the authority of approving alternate methods of demonstrating compliance as established under 40 CFR 60.8(b) and 60.13(i), subpart A (NSPS General Provisions). A source may apply to the EPA for permission to use alternative test methods or alternative monitoring requirements in place of any required EPA test methods, performance specifications or procedures.

The EPA solicits comments on this aspect of the proposed rulemaking and, specifically, invites the public to identify potentially-applicable VCS and to explain why such standards should be used in this regulation.

J. Environmental Justice Considerations

An analysis of demographic data was conducted for this rulemaking. This analysis showed that the average of populations in close proximity to the sources, and thus most likely to be effected by the sources, were similar in demographic composition to national averages. The results of the demographic analysis are presented in “Review of Environmental Justice Impacts,” June 2010, a copy of which is available in the SSI docket (EPA-HQ-OAR-2009-0559).

K. Executive Order 12898: Federal Actions To Address Environmental Justice in Minority Populations and Low-Income Populations

The EPA believes the human health or environmental risk addressed by this action will not have potential disproportionately high and adverse human health or environmental effects on minority, low-income or indigenous populations. This proposed action implements national standards in the 2011 EG that would result in reduction in emissions of many of the listed HAP emitted from this source. This includes emissions of Cd, HCl, Pb, and Hg. Other emissions reductions include reductions of criteria pollutants such as CO, NOX, PM and PM2.5 and SO2. Sulfur dioxide and NOX are precursors for the formation of PM2.5 and NOX is a precursor for ozone. Reducing these emissions will decrease the amount of such pollutants to which all affected populations are exposed.

List of Subjects in 40 CFR Part 62

Environmental protection, Administrative practice and procedure, Air pollution control, Incorporation by reference, Intergovernmental relations, Reporting and recordkeeping requirements.

Dated: April 7, 2015.
Gina McCarthy,
Administrator.

PART 62—APPROVAL AND PROMULGATION OF STATE PLANS FOR DESIGNATED FACILITIES AND POLLUTANTS

For the reasons stated in the preamble, Title 40, chapter I, part 62 of the Code of Federal Regulations (CFR) is proposed to be amended as follows:

1. The authority citation for part 62 continues to read as follows:

Authority: 42 U.S.C. 7401, et seq.

2. Part 62 is amended by adding subpart LLL to read as follows:

Subpart LLL—Federal Plan Requirements for Sewage Sludge Incineration Units Constructed on or Before October 14, 2010

Table of Contents

Sec.
Applicability
62.15855 Am I subject to this subpart?
62.15860 What SSI units are exempt from the Federal Plan?
62.15865 How do I determine if my SSI is covered by an approved and effective State or Tribal plan?
62.15870 If my SSI is not listed on the Federal Plan inventory, am I exempt from this subpart?
Compliance Schedules
62.15875 What is my final compliance date?
62.15880 When must I complete each increment of progress?
62.15885 What must I include in the notifications of achievement of increments of progress?
62.15890 When must I submit the notifications of achievement of increments of progress?
62.15895 What if I do not meet an increment of progress?
62.15900 How do I comply with the increment of progress for submittal of a control plan?
62.15905 How do I comply with the increment of progress for achieving final compliance?
62.15910 What must I do if I close my SSI unit and then restart it?
62.15915 What must I do if I plan to permanently close my SSI unit and not restart it?
Operator Training and Qualification
62.15920 What are the operator training and qualification requirements?
62.15925 When must the operator training course be completed?
62.15930 How do I obtain my operator qualification?
62.15935 How do I maintain my operator qualification?
62.15940 How do I renew my lapsed operator qualification?
62.15945 What if all the qualified operators are temporarily not accessible?
62.15950 What site-specific documentation is required and how often must it be reviewed by qualified operators and plant personnel?
Emission Limits, Emission Standards and Operating Limits and Requirements
62.15955 What emission limits and standards must I meet and by when?
62.15960 What operating limits and requirements must I meet and by when?
62.15965 How do I establish operating limits if I do not use a wet scrubber, fabric filter, electrostatic precipitator, activated carbon injection, or afterburner, or if I limit emissions in some other manner, to comply with the emission limits?
62.15970 Do the emission limits, emission standards, and operating limits apply during periods of startup, shutdown, and malfunction?
62.15975 [Reserved]
Initial Compliance Requirements
62.15980 How and when do I demonstrate initial compliance with the emission limits and standards?
62.15985 How do I establish my operating limits?
62.15990 By what date must I conduct the initial air pollution control device inspection and make any necessary repairs?
62.15995 How do I develop a site-specific monitoring plan for my continuous monitoring, bag leak detection, and ash handling systems, and by what date must I conduct an initial performance evaluation?
Continuous Compliance Requirements
62.16000 How and when do I demonstrate continuous compliance with the emission limits and standards?
62.16005 How do I demonstrate continuous compliance with my operating limits?
62.16010 By what date must I conduct annual air pollution control device inspections and make any necessary repairs?
Performance Testing, Monitoring, and Calibration Requirements
62.16015 What are the performance testing, monitoring, and calibration requirements for compliance with the emission limits and standards?
62.16020 What are the monitoring and calibration requirements for compliance with my operating limits?
Recordkeeping and Reporting
62.16025 What records must I keep?
62.16030 What reports must I submit?
Title V Operating Permits
62.16035 Am I required to apply for and obtain a Title V operating permit for my existing SSI unit?
62.16040 When must I submit a title V permit application for my existing SSI unit?
Definitions
62.16045 What definitions must I know?
Delegation of Authority
62.16050 What authorities will be retained by the EPA Administrator?
Applicability
§ 62.15855 Am I subject to this subpart?

(a) You are subject to this subpart if your SSI unit meets all three criteria described in paragraphs (a)(1) through (3) of this section.

(1) You own or operate an SSI unit(s) that commenced construction on or before October 14, 2010.

(2) You own or operate an SSI unit(s) that meet the definition of an SSI unit as defined in § 62.16045.

(3) You own or operate an SSI unit(s) not exempt under § 62.15860.

(b) If you own or operator an SSI unit(s) and make changes that meet the definition of modification after September 21, 2011, the SSI unit becomes subject to 40 CFR part 60 subpart LLLL and the Federal Plan no longer applies to that unit.

(c) If you own or operate an SSI unit(s) and make physical or operational changes to the SSI unit(s) for which construction commenced on or before September 21, 2011 primarily to comply with the Federal Plan, 40 CFR part 60, subpart LLLL does not apply to the unit(s). Such changes do not qualify as modifications under 40 CFR part 60, subpart LLLL.

§ 62.15860 What SSI units are exempt from the Federal Plan?

This subpart exempts combustion units that incinerate sewage sludge and are not located at a wastewater treatment facility designed to treat domestic sewage sludge. These units may be subject to another subpart of this part (e.g., subpart III of this part). If you own or operate such a combustion unit, you must notify the Administrator of an exemption claim under this section.

§ 62.15865 How do I determine if my SSI is covered by an approved and effective State or Tribal plan?

This part (40 CFR part 62) contains a list of all states and tribal areas with approved Clean Air Act (CAA) section 111(d)/129 plans in effect. However, this part is only updated once a year. Thus, if this part does not indicate that your state or tribal area has an approved and effective plan, you should contact your state environmental agency's air director or your EPA Regional Office to determine if approval occurred since publication of the most recent version of this part. A state may also meet its CAA section 111(d)/129 obligations by submitting an acceptable written request for delegation of the Federal Plan that meets the requirements of this section. This is the only other option for a state to meet its 111(d)/129 obligations.

(a) An acceptable Federal Plan delegation request must include the following:

(1) A demonstration of adequate resources and legal authority to administer and enforce the Federal Plan.

(2) The items under §§ 60.5015(a)(1), (2), and (7).

(3) Certification that the hearing on the state delegation request, similar to the hearing for a state plan submittal, was held, a list of witnesses and their organizational affiliations, if any, appearing at the hearing, and a brief written summary of each presentation or written submission.

(4) A commitment to enter into a Memorandum of Agreement with the Regional Administrator who sets forth the terms, conditions and effective date of the delegation and that serves as the mechanism for the transfer of authority. Additional guidance and information is given in the EPA's “Delegations Manual, Item 7-139, Implementation and Enforcement of 111(d)(2) and 111(d)(2)/129(b)(3) Federal Plans.”

(b) A state with an already approved SSI CAA section 111(d)/129 state plan is not precluded from receiving EPA approval of a delegation request for the Federal Plan, providing the requirements of paragraph (a) of this section are met, and at the time of the delegation request, the state also requests withdrawal of the EPA's previous state plan approval.

(c) A state's CAA section 111(d)/129 obligations are separate from its obligations under Title V of the CAA.

§ 62.15870 If my SSI is not listed on the Federal Plan inventory, am I exempt from this subpart?

Not necessarily. Sources subject to this subpart include, but are not limited to, the inventory of sources listed in Docket ID Number EPA-HQ-OAR-2012-0319 for the Federal Plan. Review the applicability of § 62.15855 to determine if you are subject to this subpart.

Compliance Schedules

§ 62.15875 What is my final compliance date?

You must achieve final compliance specified by the dates in paragraphs (a) or (b) of this section:

(a) [DATE 1 YEAR FROM DATE OF PUBLICATION OF THE FINAL RULE IN THE Federal Register].

(b) If you plan to achieve compliance more than 1 year following [DATE 1 YEAR FROM DATE OF PUBLICATION OF THE FINAL RULE IN THE Federal Register], you must meet the two increments of progress specified in paragraphs (b)(1) and (2) of this section:

(1) Submit a final control plan; and

(2) Achieve final compliance.

§ 62.15880 When must I complete each increment of progress?

Table 1 to this subpart specifies compliance dates for each increment of progress.

§ 62.15885 What must I include in the notifications of achievement of increments of progress?

Your notification of achievement of increments of progress must include the three items specified in paragraphs (a) through (c) of this section:

(a) Notification that the increment of progress has been achieved;

(b) Any items required to be submitted with each increment of progress; and

(c) Signature of the owner or operator of the SSI unit.

§ 62.15890 When must I submit the notifications of achievement of increments of progress?

Notifications for achieving increments of progress must be postmarked no later than 10 business days after the compliance date for the increment.

§ 62.15895 What if I do not meet an increment of progress?

If you fail to meet an increment of progress, you must submit a notification to the Administrator postmarked within 10 business days after the date for that increment of progress in Table 1 to this subpart. You must inform the Administrator that you did not meet the increment, and you must continue to submit reports each subsequent calendar month until the increment of progress is met.

§ 62.15900 How do I comply with the increment of progress for submittal of a control plan?

For your control plan increment of progress, you must satisfy the two requirements specified in paragraphs (a) and (b) of this section.

(a) Submit the final control plan to your EPA Regional Office and permitting authority or delegated authority that includes the four items described in paragraphs (a)(1) through (4) of this section:

(1) A description of the devices for air pollution control and process changes that you will use to comply with the emission limits and standards and other requirements of this subpart;

(2) The type(s) of waste to be burned, if waste other than sewage sludge is burned in the unit;

(3) The maximum design sewage sludge burning capacity; and

(4) If applicable, the petition for site-specific operating limits under § 62.15965.

(b) Maintain an onsite copy of the final control plan.

§ 62.15905 How do I comply with the increment of progress for achieving final compliance?

For the final compliance increment of progress, you must complete all process changes and retrofit construction of control devices, as specified in the final control plan, so that, if the affected SSI unit is brought online, all necessary process changes and air pollution control devices would operate as designed.

§ 62.15910 What must I do if I close my SSI unit and then restart it?

(a) If you close your SSI unit but will restart it prior to the final compliance date in your state plan, you must meet the increments of progress specified in § 62.15875.

(b) If you close your SSI unit but will restart it after your final compliance date, you must complete emission control retrofits and meet the emission limits, emission standards, and operating limits on the date your unit restarts operation.

§ 62.15915 What must I do if I plan to permanently close my SSI unit and not restart it?

If you plan to close your SSI unit rather than comply with the Federal Plan, submit a closure notification, including the date of closure, to the Administrator by the date your final control plan is due.

Operator Training and Qualification

§ 62.15920 What are the operator training and qualification requirements?

(a) AN SSI unit cannot be operated unless a fully trained and qualified SSI unit operator is accessible, either at the facility or can be at the facility within 1 hour. The trained and qualified SSI unit operator may operate the SSI unit directly or be the direct supervisor of one or more other plant personnel who operate the unit. If all qualified SSI unit operators are temporarily not accessible, you must follow the procedures in § 62.15945.

(b) Operator training and qualification must be obtained through a state-approved program or by completing the requirements included in paragraph (c) of this section.

(c) Training must be obtained by completing an incinerator operator training course that includes, at a minimum, the three elements described in paragraphs (c)(1) through (3) of this section:

(1) Training on the 10 subjects listed in paragraphs (c)(1)(i) through (x) of this section:

(i) Environmental concerns, including types of emissions;

(ii) Basic combustion principles, including products of combustion;

(iii) Operation of the specific type of incinerator to be used by the operator, including proper startup, sewage sludge feeding and shutdown procedures;

(iv) Combustion controls and monitoring;

(v) Operation of air pollution control equipment and factors affecting performance (if applicable);

(vi) Inspection and maintenance of the incinerator and air pollution control devices;

(vii) Actions to prevent malfunctions or to prevent conditions that may lead to malfunctions;

(viii) Bottom and fly ash characteristics and handling procedures;

(ix) Applicable federal, state and local regulations, including Occupational Safety and Health Administration workplace standards; and

(x) Pollution prevention.

(2) An examination designed and administered by the state-approved program or instructor administering the subjects in paragraph(c)(1) of this section.

(3) Written material covering the training course topics that may serve as reference material following completion of the course.

§ 62.15925 When must the operator training course be completed?

The operator training course must be completed by the later of the three dates specified in paragraphs (a) through (c) of this section:

(a) The final compliance date (Increment 2);

(b) Six months after your SSI unit startup; and

(c) Six months after an employee assumes responsibility for operating the SSI unit or assumes responsibility for supervising the operation of the SSI unit.

§ 62.15930 How do I obtain my operator qualification?

(a) You must obtain operator qualification by completing a training course that satisfies the criteria under § 62.15920(b).

(b) Qualification is valid from the date on which the training course is completed and the operator successfully passes the examination required under § 62.15920(c)(2).

§ 62.15935 How do I maintain my operator qualification?

To maintain qualification, you must complete an annual review or refresher course covering, at a minimum, the five topics described in paragraphs (a) through (e) of this section:

(a) Update of regulations;

(b) Incinerator operation, including startup and shutdown procedures, sewage sludge feeding and ash handling;

(c) Inspection and maintenance;

(d) Prevention of malfunctions or conditions that may lead to malfunction; and

(e) Discussion of operating problems encountered by attendees.

§ 62.15940 How do I renew my lapsed operator qualification?

You must renew a lapsed operator qualification before you begin operation of an SSI unit by one of the two methods specified in paragraphs (a) and (b) of this section:

(a) For a lapse of less than 3 years, you must complete a standard annual refresher course described in § 62.15935; and

(b) For a lapse of 3 years or more, you must repeat the initial qualification requirements in § 62.15920.

§ 62.15945 What if all the qualified operators are temporarily not accessible?

If a qualified operator is not at the facility and cannot be at the facility within 1 hour, you must meet the criteria specified in either paragraph (a) or (b) of this section, depending on the length of time that a qualified operator is not accessible:

(a) When a qualified operator is not accessible for more than 8 hours, the SSI unit may be operated for less than 2 weeks by other plant personnel who are familiar with the operation of the SSI unit and who have completed a review of the information specified in § 62.15950 within the past 12 months. However, you must record the period when a qualified operator was not accessible and include this deviation in the annual report as specified under § 62.16030(c).

(b) When a qualified operator is not accessible for 2 weeks or more, you must take the two actions that are described in paragraphs (b)(1) and (2) of this section:

(1) Notify the Administrator of this deviation in writing within 10 days. In the notice, state what caused this deviation, what you are doing to ensure that a qualified operator is accessible, and when you anticipate that a qualified operator will be accessible; and

(2) Submit a status report to the Administrator every 4 weeks outlining what you are doing to ensure that a qualified operator is accessible, stating when you anticipate that a qualified operator will be accessible and requesting approval from the Administrator to continue operation of the SSI unit. You must submit the first status report 4 weeks after you notify the Administrator of the deviation under paragraph (b)(1) of this section:

(i) If the Administrator notifies you that your request to continue operation of the SSI unit is disapproved, the SSI unit may continue operation for 30 days and then must cease operation; and

(ii) Operation of the unit may resume if a qualified operator is accessible as required under § 62.15920(a). You must notify the Administrator within 5 days of having resumed operations and of having a qualified operator accessible.

§ 62.15950 What site-specific documentation is required and how often must it be reviewed by qualified operators and plant personnel?

(a) You must maintain at the facility the documentation of the operator training procedures specified under § 62.15920(c)(1) and make the documentation readily accessible to all SSI unit operators.

(b) You must establish a program for reviewing the information listed in § 62.15920(c)(1) with each qualified incinerator operator and other plant personnel who may operate the unit according to the provisions of § 62.15945(a), according to the following schedule:

(1) The initial review of the information listed in § 62.15920(c)(1) must be conducted within 6 months after the effective date of this subpart or prior to an employee's assumption of responsibilities for operation of the SSI unit, whichever date is later; and

(2) Subsequent annual reviews of the information listed in § 62.15920(c)(1) must be conducted no later than 12 months following the previous review.

Emission Limits, Emission Standards, and Operating Limits and Requirements

§ 62.15955 What emission limits and standards must I meet and by when?

You must meet the emission limits and standards specified in Table 2 or 3 to this subpart by the final compliance date specified in § 62.15880. The emission limits and standards apply at all times the unit is operating and during periods of malfunction. The emission limits and standards apply to emissions from a bypass stack or vent while sewage sludge is in the combustion chamber (i.e., until the sewage sludge feed to the combustor has been cut off for a period of time not less than the sewage sludge incineration residence time).

§ 62.15960 What operating limits and requirements must I meet and by when?

You must meet, as applicable, the operating limits and requirements specified in paragraphs (a) through (d) and (h) of this section, according to the schedule specified in paragraph (e) of this section. The operating parameters for which you will establish operating limits for a wet scrubber, fabric filter, electrostatic precipitator or activated carbon injection are listed in Table 4 to this subpart. You must comply with the operating requirements in paragraph (f) of this section and the requirements in paragraph (g) of this section for meeting any new operating limits, re-established in § 62.16005. The operating limits apply at all times that sewage sludge is in the combustion chamber (i.e., until the sewage sludge feed to the combustor has been cut off for a period of time not less than the sewage sludge incineration residence time):

(a) You must meet a site-specific operating limit for minimum operating temperature of the combustion chamber (or afterburner combustion chamber) that you establish in § 62.15985;

(b) If you use a wet scrubber, electrostatic precipitator, activated carbon injection or afterburner to comply with an emission limit, you must meet the site-specific operating limits that you establish in § 62.15985 for each operating parameter associated with each air pollution control device;

(c) If you use a fabric filter to comply with the emission limits, you must install the bag leak detection system specified in §§ 62.15995(b) and 62.16020(b)(3)(i) and operate the bag leak detection system such that the alarm does not sound more than 5 percent of the operating time during a 6-month period. You must calculate the alarm time as specified in § 62.16005(a)(2)(i);

(d) You must meet the operating requirements in your site-specific fugitive emission monitoring plan, submitted as specified in § 62.15995(d) to ensure that your ash handling system will meet the emission standard for fugitive emissions from ash handling;

(e) You must meet the operating limits and requirements specified in paragraphs (a) through (d) of this section by the final compliance date specified in § 62.15880;

(f) You must monitor the feed rate and moisture content of the sewage sludge fed to the sewage sludge incinerator, as specified in paragraphs (f)(1) and (2) of this section:

(1) Continuously monitor the sewage sludge feed rate and calculate a daily average for all hours of operation during each 24-hour period. Keep a record of the daily average feed rate, as specified in § 62.16025(f)(3)(ii); and

(2) Take at least one grab sample per day of the sewage sludge fed to the sewage sludge incinerator. If you take more than one grab sample in a day, calculate the daily average for the grab samples. Keep a record of the daily average moisture content, as specified in § 62.16025(f)(3)(ii).

(g) For the operating limits and requirements specified in paragraphs (a) through (d) and (h) of this section, you must meet any new operating limits and requirements, re-established according to § 62.16005(d)); and

(h) If you use an air pollution control device other than a wet scrubber, fabric filter, electrostatic precipitator or activated carbon injection to comply with the emission limits in Table 2 or 3 to this subpart, you must meet any site-specific operating limits or requirements that you establish as required in § 62.15965.

§ 62.15965 How do I establish operating limits if I do not use a wet scrubber, fabric filter, electrostatic precipitator, activated carbon injection, or afterburner, or if I limit emissions in some other manner, to comply with the emission limits?

If you use an air pollution control device other than a wet scrubber, fabric filter, electrostatic precipitator, activated carbon injection, or afterburner, or limit emissions in some other manner (e.g., materials balance) to comply with the emission limits in § 62.15955, you must meet the requirements in paragraphs (a) and (b) of this section:

(a) Meet the applicable operating limits and requirements in § 60.4850, and establish applicable operating limits according to § 62.15985; and

(b) Petition the Administrator for specific operating parameters, operating limits, and averaging periods to be established during the initial performance test and to be monitored continuously thereafter.

(1) You are responsible for submitting any supporting information in a timely manner to enable the Administrator to consider the application prior to the performance test. You must not conduct the initial performance test until after the petition has been approved by the Administrator, and you must comply with the operating limits as written, pending approval by the Administrator. Neither submittal of an application, nor the Administrator's failure to approve or disapprove the application relieves you of the responsibility to comply with any provision of this subpart;

(2) Your petition must include the five items listed in paragraphs (b)(2)(i) through(v) of this section:

(i) Identification of the specific parameters you propose to monitor;

(ii) A discussion of the relationship between these parameters and emissions of regulated pollutants, identifying how emissions of regulated pollutants change with changes in these parameters, and how limits on these parameters will serve to limit emissions of regulated pollutants;

(iii) A discussion of how you will establish the upper and/or lower values for these parameters that will establish the operating limits on these parameters, including a discussion of the averaging periods associated with those parameters for determining compliance;

(iv) A discussion identifying the methods you will use to measure and the instruments you will use to monitor these parameters, as well as the relative accuracy and precision of these methods and instruments; and

(v) A discussion identifying the frequency and methods for recalibrating the instruments you will use for monitoring these parameters.

§ 62.15970 Do the emission limits, emission standards, and operating limits apply during periods of startup, shutdown and malfunction?

The emission limits and standards apply at all times and during periods of malfunction. The operating limits apply at all times that sewage sludge is in the combustion chamber (i.e., until the sewage sludge feed to the combustor has been cut off for a period of time not less than the sewage sludge incineration residence time). For determining compliance with the CO concentration limit using CO CEMS, the correction to 7 percent oxygen does not apply during periods of startup or shutdown. Use the measured CO concentration without correcting for oxygen concentration in averaging with other CO concentrations (corrected to 7 percent O2) to determine the 24-hour average value.

§ 62.15975 [Reserved]

Initial Compliance Requirements

§ 62.15980 How and when do I demonstrate initial compliance with the emission limits and standards?

To demonstrate initial compliance with the emission limits and standards in Table 2 or 3 to this subpart, use the procedures specified in paragraph (a) of this section. In lieu of using the procedures specified in paragraph (a) of this section, you have the option to demonstrate initial compliance using the procedures specified in paragraph (b) of this section for particulate matter, hydrogen chloride, carbon monoxide, dioxins/furans (total mass basis or toxic equivalency basis), mercury, nitrogen oxides, sulfur dioxide, cadmium, lead and fugitive emissions from ash handling. You must meet the requirements of paragraphs (a) and (b) of this section, as applicable, and paragraphs (c) through (e) of this section, according to the performance testing, monitoring, and calibration requirements in § 62.16015(a) and (b).

(a) Demonstrate initial compliance using the performance test required in § 60.8. You must demonstrate that your SSI unit meets the emission limits and standards specified in Table 2 or 3 to this subpart for particulate matter, hydrogen chloride, carbon monoxide, dioxins/furans (total mass basis or toxic equivalency basis), mercury, nitrogen oxides, sulfur dioxide, cadmium, lead and fugitive emissions from ash handling using the performance test. The initial performance test must be conducted using the test methods, averaging methods, and minimum sampling volumes or durations specified in Table 2 or 3 to this subpart and according to the testing, monitoring, and calibration requirements specified in § 62.16015(a).

(1) Except as provided in paragraph (e) of this section, you must demonstrate that your SSI unit meets the emission limits and standards specified in Table 2 or 3 to this subpart by the final compliance date (see Table 1 to this subpart).

(2) You may use the results from a performance test conducted within the 2 previous years that was conducted under the same conditions and demonstrated compliance with the emission limits and standards in Table 2 or 3 to this subpart, provided no process changes have been made since you conducted that performance test. However, you must continue to meet the operating limits established during the most recent performance test that demonstrated compliance with the emission limits and standards in Table 2 or 3 to this subpart. The performance test must have used the test methods specified in Table 2 or 3 to this subpart.

(b) Demonstrate initial compliance using a continuous emissions monitoring system or continuous automated sampling system. The option to use a continuous emissions monitoring system for hydrogen chloride, dioxins/furans, cadmium, or lead takes effect on the date a final performance specification applicable to hydrogen chloride, dioxins/furans, cadmium or lead is published in the Federal Register. The option to use a continuous automated sampling system for dioxins/furans takes effect on the date a final performance specification for such a continuous automated sampling system is published in the Federal Register. Collect data as specified in § 62.16015(b)(6) and use the following procedures:

(1) To demonstrate initial compliance with the emission limits specified in Table 2 or 3 to this subpart for particulate matter, hydrogen chloride, carbon monoxide, dioxins/furans (total mass basis or toxic equivalency basis), mercury, nitrogen oxides, sulfur dioxide, cadmium and lead, you may substitute the use of a continuous monitoring system in lieu of conducting the initial performance test required in paragraph (a) of this section, as follows:

(i) You may substitute the use of a continuous emissions monitoring system for any pollutant specified in paragraph (b)(1) of this section in lieu of conducting the initial performance test for that pollutant in paragraph (a) of this section. For determining compliance with the carbon monoxide concentration limit using carbon monoxide CEMS, the correction to 7 percent oxygen does not apply during periods of startup or shutdown. Use the measured carbon monoxide concentration without correcting for oxygen concentration in averaging with other carbon monoxide concentrations (corrected to 7 percent oxygen) to determine the 24-hour average value.

(ii) You may substitute the use of a continuous automated sampling system for mercury or dioxins/furans in lieu of conducting the annual mercury or dioxin/furan performance test in paragraph (a) of this section.

(2) If you use a continuous emissions monitoring system to demonstrate compliance with an applicable emission limit in Table 2 or 3 to this subpart, as described in paragraph (b)(1) of this section, you must use the continuous emissions monitoring system and follow the requirements specified in § 62.16015(b). You must measure emissions according to § 60.13 to calculate 1-hour arithmetic averages, corrected to 7 percent oxygen (or carbon dioxide). You must demonstrate initial compliance using a 24-hour block average of these 1-hour arithmetic average emission concentrations, calculated using Equation 19-19 in section 12.4.1 of Method 19 of 40 CFR part 60, appendix A-7.

(3) If you use a continuous automated sampling system to demonstrate compliance with an applicable emission limit in Table 2 or 3 to this subpart, as described in paragraph (b)(1) of this section, you must:

(i) Use the continuous automated sampling system specified in § 60.58b(p) and (q), and measure and calculate average emissions corrected to 7 percent oxygen (or carbon dioxide) according to § 60.58b(p) and your monitoring plan.

(A) Use the procedures specified in § 60.58b(p) to calculate 24-hour block averages to determine compliance with the mercury emission limit in Table 2 or 3 to this subpart.

(B) Use the procedures specified in § 60.58b(p) to calculate 2-week block averages to determine compliance with the dioxin/furan (total mass basis or toxic equivalency basis) emission limit in Table 2 or 3 to this subpart.

(ii) Comply with the provisions in § 60.58b(q) to develop a monitoring plan. For mercury continuous automated sampling systems, you must use Performance Specification 12B of appendix B of part 75 and Procedure 5 of appendix F of part 60.

(4) Except as provided in paragraph (e) of this section, you must complete your initial performance evaluations required under your monitoring plan for any continuous emissions monitoring systems and continuous automated sampling systems by the final compliance date (see Table 1 to this subpart). Your performance evaluation must be conducted using the procedures and acceptance criteria specified in § 62.15995(a)(3).

(c) To demonstrate initial compliance with the dioxins/furans toxic equivalency emission limit in Table 2 or 3 to this subpart, determine dioxins/furans toxic equivalency as follows:

(1) Measure the concentration of each dioxin/furan tetra- through octachlorinated-isomer emitted using EPA Method 23 at 40 CFR part 60, appendix A-7.

(2) Multiply the concentration of each dioxin/furan (tetra- through octa-chlorinated) isomer by its corresponding toxic equivalency factor specified in Table 5 to this subpart.

(3) Sum the products calculated in accordance with paragraph (c)(2) of this section to obtain the total concentration of dioxins/furans emitted in terms of toxic equivalency.

(d) Submit an initial compliance report, as specified in § 62.16030(b).

(e) If you demonstrate initial compliance using the performance test specified in paragraph (a) of this section, then the provisions of this paragraph (e) apply. If a force majeure is about to occur, occurs or has occurred for which you intend to assert a claim of force majeure, you must notify the Administrator in writing as specified in § 62.16030(f). You must conduct the initial performance test as soon as practicable after the force majeure occurs. The Administrator will determine whether or not to grant the extension to the initial performance test deadline and will notify you in writing of approval or disapproval of the request for an extension as soon as practicable. Until an extension of the performance test deadline has been approved by the Administrator, you remain strictly subject to the requirements of this subpart.

§ 62.15985 How do I establish my operating limits?

(a) You must establish the site-specific operating limits specified in paragraphs (b) through (h) of this section or established in § 62.15965, as applicable, during your initial performance tests required in § 62.15980. You must meet the requirements in § 62.16005(d) to confirm these operating limits or re-establish new operating limits using operating data recorded during any performance tests or performance evaluations required in § 62.16000. You must follow the data measurement and recording frequencies and data averaging times specified in Table 4 to this subpart or as established in § 62.15965, and you must follow the testing, monitoring and calibration requirements specified in §§ 62.16015 and 62.16020 or established in § 62.15965. You are not required to establish operating limits for the operating parameters listed in Table 4 to this subpart for a control device if you use a continuous monitoring system to demonstrate compliance with the emission limits in Table 2 or 3 to this subpart for the applicable pollutants, as follows:

(1) For a scrubber designed to control emissions of hydrogen chloride or sulfur dioxide, you are not required to establish an operating limit and monitor scrubber liquid flow rate or scrubber liquid pH if you use the continuous monitoring system specified in §§ 60.4865(b) and 60.4885(b) to demonstrate compliance with the emission limit for hydrogen chloride or sulfur dioxide.

(2) For a scrubber designed to control emissions of particulate matter, cadmium and lead, you are not required to establish an operating limit and monitor pressure drop across the scrubber or scrubber liquid flow rate if you use the continuous monitoring system specified in §§ 60.4865(b) and 60.4885(b) to demonstrate compliance with the emission limit for particulate matter, cadmium and lead.

(3) For an electrostatic precipitator designed to control emissions of particulate matter, cadmium and lead, you are not required to establish an operating limit and monitor secondary voltage of the collection plates, secondary amperage of the collection plates or effluent water flow rate at the outlet of the electrostatic precipitator if you use the continuous monitoring system specified in §§ 60.4865(b) and 60.4885(b) to demonstrate compliance with the emission limit for particulate matter, lead and cadmium.

(4) For an activated carbon injection system designed to control emissions of mercury, you are not required to establish an operating limit and monitor sorbent injection rate and carrier gas flow rate (or carrier gas pressure drop) if you use the continuous monitoring system specified in §§ 60.4865(b) and 60.4885(b) to demonstrate compliance with the emission limit for mercury.

(5) For an activated carbon injection system designed to control emissions of dioxins/furans, you are not required to establish an operating limit and monitor sorbent injection rate and carrier gas flow rate (or carrier gas pressure drop) if you use the continuous monitoring system specified in §§ 60.4865(b) and 60.4885(b) to demonstrate compliance with the emission limit for dioxins/furans (total mass basis or toxic equivalency basis).

(b) Minimum pressure drop across each wet scrubber used to meet the particulate matter, lead and cadmium emission limits in Table 2 or 3 to this subpart, equal to the lowest 4-hour average pressure drop across each such wet scrubber measured during the most recent performance test demonstrating compliance with the particulate matter, lead and cadmium emission limits.

(c) Minimum scrubber liquid flow rate (measured at the inlet to each wet scrubber), equal to the lowest 4-hour average liquid flow rate measured during the most recent performance test demonstrating compliance with all applicable emission limits.

(d) Minimum scrubber liquid pH for each wet scrubber used to meet the sulfur dioxide or hydrogen chloride emission limits in Table 2 or 3 to this subpart, equal to the lowest 1-hour average scrubber liquid pH measured during the most recent performance test demonstrating compliance with the sulfur dioxide and hydrogen chloride emission limits.

(e) Minimum combustion chamber operating temperature (or minimum afterburner temperature), equal to the lowest 4-hour average combustion chamber operating temperature (or afterburner temperature) measured during the most recent performance test demonstrating compliance with all applicable emission limits.

(f) Minimum power input to the electrostatic precipitator collection plates, equal to the lowest 4-hour average secondary electric power measured during the most recent performance test demonstrating compliance with the particulate matter, lead and cadmium emission limits. Power input must be calculated as the product of the secondary voltage and secondary amperage to the electrostatic precipitator collection plates. Both the secondary voltage and secondary amperage must be recorded during the performance test.

(g) Minimum effluent water flow rate at the outlet of the electrostatic precipitator, equal to the lowest 4-hour average effluent water flow rate at the outlet of the electrostatic precipitator measured during the most recent performance test demonstrating compliance with the particulate matter, lead and cadmium emission limits.

(h) For activated carbon injection, establish the site-specific operating limits specified in paragraphs (h)(1) through (3) of this section.

(1) Minimum mercury sorbent injection rate, equal to the lowest 4-hour average mercury sorbent injection rate measured during the most recent performance test demonstrating compliance with the mercury emission limit.

(2) Minimum dioxin/furan sorbent injection rate, equal to the lowest 4-hour average dioxin/furan sorbent injection rate measured during the most recent performance test demonstrating compliance with the dioxin/furan (total mass basis or toxic equivalency basis) emission limit.

(3) Minimum carrier gas flow rate or minimum carrier gas pressure drop, as follows:

(i) Minimum carrier gas flow rate, equal to the lowest 4-hour average carrier gas flow rate measured during the most recent performance test demonstrating compliance with the applicable emission limit.

(ii) Minimum carrier gas pressure drop, equal to the lowest 4-hour average carrier gas flow rate measured during the most recent performance test demonstrating compliance with the applicable emission limit.

§ 62.15990 By what date must I conduct the initial air pollution control device inspection and make any necessary repairs?

(a) You must conduct an air pollution control device inspection according to § 62.16015(c) by the final compliance date as specified in § 62.15880. For air pollution control devices installed after the final compliance date, you must conduct the air pollution control device inspection within 60 days after installation of the control device.

(b) Within 10 operating days following the air pollution control device inspection under paragraph (a) of this section, all necessary repairs must be completed unless you obtain written approval from the Administrator establishing a date whereby all necessary repairs of the SSI unit must be completed.

§ 62.15995 How do I develop a site-specific monitoring plan for my continuous monitoring, bag leak detection, and ash handling systems, and by what date must I conduct an initial performance evaluation?

You must develop and submit to the Administrator for approval a site-specific monitoring plan for each continuous monitoring system required under this subpart, according to the requirements in paragraphs (a) through (c) of this section. This requirement also applies to you if you petition the Administrator for alternative monitoring parameters under § 60.13(i) and paragraph (e) of this section. If you use a continuous automated sampling system to comply with the mercury or dioxin/furan (total mass basis or toxic equivalency basis) emission limits, you must develop your monitoring plan as specified in § 60.58b(q), and you are not required to meet the requirements in paragraphs (a) and (b) of this section. You must also submit a site-specific monitoring plan for your ash handling system, as specified in paragraph (d) of this section. You must submit and update your monitoring plans as specified in paragraphs (f) through (h) of this section.

(a) For each continuous monitoring system, your monitoring plan must address the elements and requirements specified in paragraphs (a)(1) through (8) of this section. You must operate and maintain the continuous monitoring system in continuous operation according to the site-specific monitoring plan.

(1) Installation of the continuous monitoring system sampling probe or other interface at a measurement location relative to each affected process unit such that the measurement is representative of control of the exhaust emissions (e.g., on or downstream of the last control device).

(2) Performance and equipment specifications for the sample interface, the pollutant concentration or parametric signal analyzer and the data collection and reduction systems.

(3) Performance evaluation procedures and acceptance criteria (e.g., calibrations).

(i) For continuous emissions monitoring systems, your performance evaluation and acceptance criteria must include, but is not limited to, the following:

(A) The applicable requirements for continuous emissions monitoring systems specified in § 60.13.

(B) The applicable performance specifications (e.g., relative accuracy tests) in appendix B of part 60.

(C) The applicable procedures (e.g., quarterly accuracy determinations and daily calibration drift tests) in appendix F of part 60.

(D) A discussion of how the occurrence and duration of out-of-control periods will affect the suitability of CEMS data, where out-of-control has the meaning given in paragraph (a)(7)(i) of this section.

(ii) For continuous parameter monitoring systems, your performance evaluation and acceptance criteria must include, but is not limited to, the following:

(A) If you have an operating limit that requires the use of a flow monitoring system, you must meet the requirements in paragraphs (a)(3)(ii)(A)(1) through (4) of this section.

(1) Install the flow sensor and other necessary equipment in a position that provides a representative flow.

(2) Use a flow sensor with a measurement sensitivity of no greater than 2 percent of the expected process flow rate.

(3) Minimize the effects of swirling flow or abnormal velocity distributions due to upstream and downstream disturbances.

(4) Conduct a flow monitoring system performance evaluation in accordance with your monitoring plan at the time of each performance test but no less frequently than annually.

(B) If you have an operating limit that requires the use of a pressure monitoring system, you must meet the requirements in paragraphs (a)(3)(ii)(B)(1) through (6) of this section.

(1) Install the pressure sensor(s) in a position that provides a representative measurement of the pressure (e.g., particulate matter scrubber pressure drop).

(2) Minimize or eliminate pulsating pressure, vibration, and internal and external corrosion.

(3) Use a pressure sensor with a minimum tolerance of 1.27 centimeters of water or a minimum tolerance of 1 percent of the pressure monitoring system operating range, whichever is less.

(4) Perform checks at least once each process operating day to ensure pressure measurements are not obstructed (e.g., check for pressure tap pluggage daily).

(5) Conduct a performance evaluation of the pressure monitoring system in accordance with your monitoring plan at the time of each performance test but no less frequently than annually.

(6) If at any time the measured pressure exceeds the manufacturer's specified maximum operating pressure range, conduct a performance evaluation of the pressure monitoring system in accordance with your monitoring plan and confirm that the pressure monitoring system continues to meet the performance requirements in your monitoring plan. Alternatively, install and verify the operation of a new pressure sensor.

(C) If you have an operating limit that requires a pH monitoring system, you must meet the requirements in paragraphs (a)(3)(ii)(C)(1) through (4) of this section.

(1) Install the pH sensor in a position that provides a representative measurement of scrubber effluent pH.

(2) Ensure the sample is properly mixed and representative of the fluid to be measured.

(3) Conduct a performance evaluation of the pH monitoring system in accordance with your monitoring plan at least once each process operating day.

(4) Conduct a performance evaluation (including a two-point calibration with one of the two buffer solutions having a pH within 1 of the operating limit pH level) of the pH monitoring system in accordance with your monitoring plan at the time of each performance test but no less frequently than quarterly.

(D) If you have an operating limit that requires the use of a temperature measurement device, you must meet the requirements in paragraphs (a)(3)(ii)(D)(1) through (4) of this section.

(1) Install the temperature sensor and other necessary equipment in a position that provides a representative temperature.

(2) Use a temperature sensor with a minimum tolerance of 2.8 degrees Celsius (5 degrees Fahrenheit), or 1.0 percent of the temperature value, whichever is larger, for a noncryogenic temperature range.

(3) Use a temperature sensor with a minimum tolerance of 2.8 degrees Celsius (5 degrees Fahrenheit), or 2.5 percent of the temperature value, whichever is larger, for a cryogenic temperature range.

(4) Conduct a temperature measurement device performance evaluation at the time of each performance test but no less frequently than annually.

(E) If you have an operating limit that requires a secondary electric power monitoring system for an electrostatic precipitator, you must meet the requirements in paragraphs (a)(3)(ii)(E)(1) and (2) of this section.

(1) Install sensors to measure (secondary) voltage and current to the electrostatic precipitator collection plates.

(2) Conduct a performance evaluation of the electric power monitoring system in accordance with your monitoring plan at the time of each performance test but no less frequently than annually.

(F) If you have an operating limit that requires the use of a monitoring system to measure sorbent injection rate (e.g., weigh belt, weigh hopper or hopper flow measurement device), you must meet the requirements in paragraphs (a)(3)(ii)(F)(1) and (2) of this section.

(1) Install the system in a position(s) that provides a representative measurement of the total sorbent injection rate.

(2) Conduct a performance evaluation of the sorbent injection rate monitoring system in accordance with your monitoring plan at the time of each performance test but no less frequently than annually.

(4) Ongoing operation and maintenance procedures in accordance with the general requirements of § 60.11(d).

(5) Ongoing data quality assurance procedures in accordance with the general requirements of § 60.13.

(6) Ongoing recordkeeping and reporting procedures in accordance with the general requirements of § 60.7(b), (c), (c)(1), (c)(4), (d), (e), (f) and (g).

(7) Provisions for periods when the continuous monitoring system is out of control, as follows:

(i) A continuous monitoring system is out of control if the conditions of paragraph (a)(7)(i)(A) or (i)(B) of this section are met.

(A) The zero (low-level), mid-level (if applicable), or high-level calibration drift exceeds two times the applicable calibration drift specification in the applicable performance specification or in the relevant standard.

(B) The continuous monitoring system fails a performance test audit (e.g., cylinder gas audit), relative accuracy audit, relative accuracy test audit or linearity test audit.

(ii) When the continuous monitoring system is out of control as specified in paragraph (a)(7)(i) of this section, you must take the necessary corrective action and must repeat all necessary tests that indicate that the system is out of control. You must take corrective action and conduct retesting until the performance requirements are below the applicable limits. The beginning of the out-of-control period is the hour you conduct a performance check (e.g., calibration drift) that indicates an exceedance of the performance requirements established under this part. The end of the out-of-control period is the hour following the completion of corrective action and successful demonstration that the system is within the allowable limits.

(8) Schedule for conducting initial and periodic performance evaluations of your continuous monitoring systems.

(b) If a bag leak detection system is used, your monitoring plan must include a description of the following items:

(1) Installation of the bag leak detection system in accordance with paragraphs (b)(1)(i) and (ii) of this section.

(i) Install the bag leak detection sensor(s) in a position(s) that will be representative of the relative or absolute particulate matter loadings for each exhaust stack, roof vent or compartment (e.g., for a positive pressure fabric filter) of the fabric filter.

(ii) Use a bag leak detection system certified by the manufacturer to be capable of detecting particulate matter emissions at concentrations of 10 milligrams per actual cubic meter or less.

(2) Initial and periodic adjustment of the bag leak detection system, including how the alarm set-point will be established. Use a bag leak detection system equipped with a system that will sound an alarm when the system detects an increase in relative particulate matter emissions over a preset level. The alarm must be located where it is observed readily and any alert is detected and recognized easily by plant operating personnel.

(3) Evaluations of the performance of the bag leak detection system, performed in accordance with your monitoring plan and consistent with the guidance provided in Fabric Filter Bag Leak Detection Guidance, EPA-454/R-98-015, September 1997 (incorporated by reference, see § 60.17).

(4) Operation of the bag leak detection system, including quality assurance procedures.

(5) Maintenance of the bag leak detection system, including a routine maintenance schedule and spare parts inventory list.

(6) Recordkeeping (including record retention) of the bag leak detection system data. Use a bag leak detection system equipped with a device to continuously record the output signal from the sensor.

(c) You must conduct an initial performance evaluation of each continuous monitoring system and bag leak detection system, as applicable, in accordance with your monitoring plan and to § 60.13(c). For the purpose of this subpart, the provisions of § 60.13(c) also apply to the bag leak detection system. You must conduct the initial performance evaluation of each continuous monitoring system within 60 days of installation of the monitoring system.

(d) You must submit a monitoring plan specifying the ash handling system operating procedures that you will follow to ensure that you meet the fugitive emissions limit specified in Table 2 or 3 to this subpart.

(e) You may submit an application to the Administrator for approval of alternate monitoring requirements to demonstrate compliance with the standards of this subpart, subject to the provisions of paragraphs (e)(1) through (6) of this section.

(1) The Administrator will not approve averaging periods other than those specified in this section, unless you document, using data or information, that the longer averaging period will ensure that emissions do not exceed levels achieved over the duration of three performance test runs.

(2) If the application to use an alternate monitoring requirement is approved, you must continue to use the original monitoring requirement until approval is received to use another monitoring requirement.

(3) You must submit the application for approval of alternate monitoring requirements no later than the notification of performance test. The application must contain the information specified in paragraphs (e)(3)(i) through (iii) of this section:

(i) Data or information justifying the request, such as the technical or economic infeasibility, or the impracticality of using the required approach.

(ii) A description of the proposed alternative monitoring requirement, including the operating parameter to be monitored, the monitoring approach and technique, the averaging period for the limit, and how the limit is to be calculated.

(iii) Data or information documenting that the alternative monitoring requirement would provide equivalent or better assurance of compliance with the relevant emission standard.

(4) The Administrator will notify you of the approval or denial of the application within 90 calendar days after receipt of the original request, or within 60 calendar days of the receipt of any supplementary information, whichever is later. The Administrator will not approve an alternate monitoring application unless it would provide equivalent or better assurance of compliance with the relevant emission standard. Before disapproving any alternate monitoring application, the Administrator will provide the following:

(i) Notice of the information and findings upon which the intended disapproval is based.

(ii) Notice of opportunity for you to present additional supporting information before final action is taken on the application. This notice will specify how much additional time is allowed for you to provide additional supporting information.

(5) You are responsible for submitting any supporting information in a timely manner to enable the Administrator to consider the application prior to the performance test. Neither submittal of an application, nor the Administrator's failure to approve or disapprove the application relieves you of the responsibility to comply with any provision of this subpart.

(6) The Administrator may decide at any time, on a case-by-case basis, that additional or alternative operating limits, or alternative approaches to establishing operating limits, are necessary to demonstrate compliance with the emission standards of this subpart.

(f) You must submit your monitoring plans required in paragraphs (a) and (b) of this section at least 60 days before your initial performance evaluation of your continuous monitoring system(s).

(g) You must submit your monitoring plan for your ash handling system, as required in paragraph (d) of this section, at least 60 days before your initial compliance test date.

(h) You must update and resubmit your monitoring plan if there are any changes or potential changes in your monitoring procedures or if there is a process change, as defined in § 62.16045.

Continuous Compliance Requirements

§ 62.16000 How and when do I demonstrate continuous compliance with the emission limits and standards?

To demonstrate continuous compliance with the emission limits and standards specified in Table 2 or 3 to this subpart, use the procedures specified in paragraph (a) of this section. In lieu of using the procedures specified in paragraph (a) of this section, you have the option to demonstrate initial compliance using the procedures specified in paragraph (b) of this section for particulate matter, hydrogen chloride, carbon monoxide, dioxins/furans (total mass basis or toxic equivalency basis), mercury, nitrogen oxides, sulfur dioxide, cadmium, lead and fugitive emissions from ash handling. You must meet the requirements of paragraphs (a) and (b) of this section, as applicable, and paragraphs (c) through (e) of this section, according to the performance testing, monitoring, and calibration requirements in § 62.16015(a) and (b). You may also petition the Administrator for alternative monitoring parameters as specified in paragraph (f) of this section.

(a) Demonstrate continuous compliance using a performance test. Except as provided in paragraphs (a)(3) and (e) of this section, following the date that the initial performance test for each pollutant in Table 2 or 3 to this subpart is completed, you must conduct a performance test for each such pollutant on an annual basis (between 11 and 13 calendar months following the previous performance test). The performance test must be conducted using the test methods, averaging methods, and minimum sampling volumes or durations specified in Table 2 or 3 to this subpart and according to the testing, monitoring and calibration requirements specified in § 62.16015(a).

(1) You may conduct a repeat performance test at any time to establish new values for the operating limits to apply from that point forward. The Administrator may request a repeat performance test at any time.

(2) You must repeat the performance test within 60 days of a process change, as defined in § 62.16045.

(3) Except as specified in paragraphs (a)(1) and (2) of this section, you can conduct performance tests less often for a given pollutant, as specified in paragraphs (a)(3)(i) through (iii) of this section.

(i) You can conduct performance tests less often if your performance tests for the pollutant for at least 2 consecutive years show that your emissions are at or below 75 percent of the emission limit specified in Table 2 or 3 to this subpart, and there are no changes in the operation of the affected source or air pollution control equipment that could increase emissions. In this case, you do not have to conduct a performance test for that pollutant for the next 2 years. You must conduct a performance test during the third year and no more than 37 months after the previous performance test.

(ii) If your SSI unit continues to meet the emission limit for the pollutant, you may choose to conduct performance tests for the pollutant every third year if your emissions are at or below 75 percent of the emission limit, and if there are no changes in the operation of the affected source or air pollution control equipment that could increase emissions, but each such performance test must be conducted no more than 37 months after the previous performance test.

(iii) If a performance test shows emissions exceeded 75 percent of the emission limit for a pollutant, you must conduct annual performance tests for that pollutant until all performance tests over 2 consecutive years show compliance.

(b) Demonstrate continuous compliance using a continuous emissions monitoring system or continuous automated sampling system. The option to use a continuous emissions monitoring system for hydrogen chloride, dioxins/furans, cadmium or lead takes effect on the date a final performance specification applicable to hydrogen chloride, dioxins/furans, cadmium or lead is published in the Federal Register. The option to use a continuous automated sampling system for dioxins/furans takes effect on the date a final performance specification for such a continuous automated sampling system is published in the Federal Register. Collect data as specified in § 62.16015(b)(6) and use the following procedures:

(1) To demonstrate continuous compliance with the emission limits for particulate matter, hydrogen chloride, carbon monoxide, dioxins/furans (total mass basis or toxic equivalency basis), mercury, nitrogen oxides, sulfur dioxide, cadmium and lead, you may substitute the use of a continuous monitoring system in lieu of conducting the annual performance test required in paragraph (a) of this section, as follows:

(i) You may substitute the use of a continuous emissions monitoring system for any pollutant specified in paragraph (b)(1) of this section in lieu of conducting the annual performance test for that pollutant in paragraph (a) of this section. For determining compliance with the carbon monoxide concentration limit using carbon monoxide CEMS, the correction to 7 percent oxygen does not apply during periods of startup or shutdown. Use the measured carbon monoxide concentration without correcting for oxygen concentration in averaging with other carbon monoxide concentrations (corrected to 7 percent oxygen) to determine the 24-hour average value.

(ii) You may substitute the use of a continuous automated sampling system for mercury or dioxins/furans in lieu of conducting the annual mercury or dioxin/furan performance test in paragraph (a) of this section.

(2) If you use a continuous emissions monitoring system to demonstrate compliance with an applicable emission limit in paragraph (b)(1) of this section, you must use the continuous emissions monitoring system and follow the requirements specified in § 62.16015(b). You must measure emissions according to § 60.13 to calculate 1-hour arithmetic averages, corrected to 7 percent oxygen (or carbon dioxide). You must demonstrate initial compliance using a 24-hour block average of these 1-hour arithmetic average emission concentrations, calculated using Equation 19-19 in section 12.4.1 of Method 19 of 40 CFR part 60, appendix A-7.

(3) If you use a continuous automated sampling system to demonstrate compliance with an applicable emission limit in paragraph (b)(1) of this section, you must:

(i) Use the continuous automated sampling system specified in § 60.58b(p) and (q), and measure and calculate average emissions corrected to 7 percent oxygen (or carbon dioxide) according to § 60.58b(p) and your monitoring plan.

(A) Use the procedures specified in § 60.58b(p) to calculate 24-hour averages to determine compliance with the mercury emission limit in Table 2 or 3 to this subpart.

(B) Use the procedures specified in § 60.58b(p) to calculate 2-week averages to determine compliance with the dioxin/furan (total mass basis or toxic equivalency basis) emission limits in Table 2 or 3 to this subpart.

(ii) Update your monitoring plan as specified in § 60.4880(e). For mercury continuous automated sampling systems, you must use Performance Specification 12B of appendix B of part 75 and Procedure 5 of appendix F of part 60.

(4) Except as provided in paragraph (e) of this section, you must complete your periodic performance evaluations required in your monitoring plan for any continuous emissions monitoring systems and continuous automated sampling systems, according to the schedule specified in your monitoring plan. If you were previously determining compliance by conducting an annual performance test (or according to the less frequent testing for a pollutant as provided in paragraph (a)(3) of this section), you must complete the initial performance evaluation required under your monitoring plan in § 62.15995 for the continuous monitoring system prior to using the continuous emissions monitoring system to demonstrate compliance or continuous automated sampling system. Your performance evaluation must be conducted using the procedures and acceptance criteria specified in § 62.15995(a)(3).

(c) To demonstrate compliance with the dioxins/furans toxic equivalency emission limit in paragraph (a) or (b) of this section, you must determine dioxins/furans toxic equivalency as follows:

(1) Measure the concentration of each dioxin/furan tetra- through octachlorinated-isomer emitted using Method 23 at 40 CFR part 60, appendix A-7.

(2) For each dioxin/furan (tetra- through octachlorinated) isomer measured in accordance with paragraph (c)(1) of this section, multiply the isomer concentration by its corresponding toxic equivalency factor specified in Table 5 to this subpart.

(3) Sum the products calculated in accordance with paragraph (c)(2) of this section to obtain the total concentration of dioxins/furans emitted in terms of toxic equivalency.

(d) You must submit an annual compliance report as specified in § 62.16030(c). You must submit a deviation report as specified in § 62.16030(d) for each instance that you did not meet each emission limit in Tables 2 and 3 to this subpart.

(e) If you demonstrate continuous compliance using a performance test, as specified in paragraph (a) of this section, then the provisions of this paragraph (e) apply. If a force majeure is about to occur, occurs, or has occurred for which you intend to assert a claim of force majeure, you must notify the Administrator in writing as specified in § 62.16030(f). You must conduct the performance test as soon as practicable after the force majeure occurs. The Administrator will determine whether or not to grant the extension to the performance test deadline, and will notify you in writing of approval or disapproval of the request for an extension as soon as practicable. Until an extension of the performance test deadline has been approved by the Administrator, you remain strictly subject to the requirements of this subpart.

(f) After any initial requests in § 62.15995 for alternative monitoring requirements for initial compliance, you may subsequently petition the Administrator for alternative monitoring parameters as specified in §§ 60.13(i) and 62.15995(e).

§ 62.16005 How do I demonstrate continuous compliance with my operating limits?

You must continuously monitor your operating parameters as specified in paragraph (a) of this section and meet the requirements of paragraphs (b) and (c) of this section, according to the monitoring and calibration requirements in § 62.16020. You must confirm and re-establish your operating limits as specified in paragraph (d) of this section.

(a) You must continuously monitor the operating parameters specified in paragraphs (a)(1) and(2) of this section using the continuous monitoring equipment and according to the procedures specified in § 62.16020 or established in § 62.15965. To determine compliance, you must use the data averaging period specified in Table 4 to this subpart (except for alarm time of the baghouse leak detection system) unless a different averaging period is established under § 62.15965.

(1) You must demonstrate that the SSI unit meets the operating limits established according to §§ 62.15965 and 62.15985 and paragraph (d) of this section for each applicable operating parameter.

(2) You must demonstrate that the SSI unit meets the operating limit for bag leak detection systems as follows:

(i) For a bag leak detection system, you must calculate the alarm time as follows:

(A) If inspection of the fabric filter demonstrates that no corrective action is required, no alarm time is counted.

(B) If corrective action is required, each alarm time shall be counted as a minimum of 1 hour.

(C) If you take longer than 1 hour to initiate corrective action, each alarm time (i.e., time that the alarm sounds) is counted as the actual amount of time taken by you to initiate corrective action.

(ii) Your maximum alarm time is equal to 5 percent of the operating time during a 6-month period, as specified in § 62.15960(c).

(b) Operation above the established maximum, below the established minimum, or outside the allowable range of the operating limits specified in paragraph (a) of this section constitutes a deviation from your operating limits established under this subpart, except during performance tests conducted to determine compliance with the emission and operating limits or to establish new operating limits. You must submit the deviation report specified in § 62.16030(d) for each instance that you did not meet one of your operating limits established under this subpart.

(c) You must submit the annual compliance report specified in § 62.16030(c) to demonstrate continuous compliance.

(d) You must confirm your operating limits according to paragraph (d)(1) of this section or re-establish operating limits according to paragraph (d)(2) of this section. Your operating limits must be established so as to assure ongoing compliance with the emission limits. These requirements also apply to your operating requirements in your fugitive emissions monitoring plan specified in § 62.15960(d).

(1) Your operating limits must be based on operating data recorded during any performance test required in § 62.16000(a) or any performance evaluation required in § 62.16000(b)(4).

(2) You may conduct a repeat performance test at any time to establish new values for the operating limits to apply from that point forward.

§ 62.16010 By what date must I conduct annual air pollution control device inspections and make any necessary repairs?

(a) You must conduct an annual inspection of each air pollution control device used to comply with the emission limits, according to § 62.16015(c), no later than 12 months following the previous annual air pollution control device inspection.

(b) Within 10 operating days following an air pollution control device inspection, all necessary repairs must be completed unless you obtain written approval from the Administrator establishing a date whereby all necessary repairs of the affected SSI unit must be completed.

Performance Testing, Monitoring, and Calibration Requirements

§ 62.16015 What are the performance testing, monitoring, and calibration requirements for compliance with the emission limits and standards?

You must meet, as applicable, the performance testing requirements specified in paragraph (a) of this section, the monitoring requirements specified in paragraph (b) of this section, the air pollution control device inspections requirements specified in paragraph (c) of this section, and the bypass stack provisions specified in paragraph (d) of this section.

(a) Performance testing requirements. (1) All performance tests must consist of a minimum of three test runs conducted under conditions representative of normal operations, as specified in § 60.8(c). Emissions in excess of the emission limits or standards during periods of startup, shutdown, and malfunction are considered deviations from the applicable emission limits or standards.

(2) You must document that the dry sludge burned during the performance test is representative of the sludge burned under normal operating conditions by:

(i) Maintaining a log of the quantity of sewage sludge burned during the performance test by continuously monitoring and recording the average hourly rate that sewage sludge is fed to the incinerator.

(ii) Maintaining a log of the moisture content of the sewage sludge burned during the performance test by taking grab samples of the sewage sludge fed to the incinerator for each 8 hour period that testing is conducted.

(3) All performance tests must be conducted using the test methods, minimum sampling volume, observation period, and averaging method specified in Table 2 or 3 to this subpart.

(4) Method 1 at 40 CFR part 60, appendix A must be used to select the sampling location and number of traverse points.

(5) Method 3A or 3B at 40 CFR part 60, appendix A-2 must be used for gas composition analysis, including measurement of oxygen concentration. Method 3A or 3B at 40 CFR part 60, appendix A-2 must be used simultaneously with each method.

(6) All pollutant concentrations must be adjusted to 7 percent oxygen using Equation 1 of this section:

Where:

Cadj = Pollutant concentration adjusted to 7 percent oxygen.

Cmeas = Pollutant concentration measured on a dry basis.

(20.9−7) = 20.9 percent oxygen−7 percent oxygen (defined oxygen correction basis).

20.9 = Oxygen concentration in air, percent.

%O2 = Oxygen concentration measured on a dry basis, percent.

(7) Performance tests must be conducted and data reduced in accordance with the test methods and procedures contained in this subpart unless the Administrator does one of the following.

(i) Specifies or approves, in specific cases, the use of a method with minor changes in methodology.

(ii) Approves the use of an equivalent method.

(iii) Approves the use of an alternative method the results of which he has determined to be adequate for indicating whether a specific source is in compliance.

(iv) Waives the requirement for performance tests because you have demonstrated by other means to the Administrator's satisfaction that the affected SSI unit is in compliance with the standard.

(v) Approves shorter sampling times and smaller sample volumes when necessitated by process variables or other factors. Nothing in this paragraph is construed to abrogate the Administrator's authority to require testing under section 114 of the Clean Air Act.

(8) You must provide the Administrator at least 30 days prior notice of any performance test, except as specified under other subparts, to afford the Administrator the opportunity to have an observer present. If after 30 days' notice for an initially scheduled performance test, there is a delay (due to operational problems, etc.) in conducting the scheduled performance test, you must notify the Administrator as soon as possible of any delay in the original test date, either by providing at least 7 days prior notice of the rescheduled date of the performance test, or by arranging a rescheduled date with the Administrator by mutual agreement.

(9) You must provide, or cause to be provided, performance testing facilities as follows:

(i) Sampling ports adequate for the test methods applicable to the SSI unit, as follows:

(A) Constructing the air pollution control system such that volumetric flow rates and pollutant emission rates can be accurately determined by applicable test methods and procedures.

(B) Providing a stack or duct free of cyclonic flow during performance tests, as demonstrated by applicable test methods and procedures.

(ii) Safe sampling platform(s).

(iii) Safe access to sampling platform(s).

(iv) Utilities for sampling and testing equipment.

(10) Unless otherwise specified in this subpart, each performance test must consist of three separate runs using the applicable test method. Each run must be conducted for the time and under the conditions specified in the applicable standard. Compliance with each emission limit must be determined by calculating the arithmetic mean of the three runs. In the event that a sample is accidentally lost or conditions occur in which one of the three runs must be discontinued because of forced shutdown, failure of an irreplaceable portion of the sample train, extreme meteorological conditions, or other circumstances, beyond your control, compliance may, upon the Administrator's approval, be determined using the arithmetic mean of the results of the two other runs.

(11) During each test run specified in paragraph (a)(1) of this section, you must operate your sewage sludge incinerator at a minimum of 85 percent of your maximum permitted capacity.

(b) Continuous monitor requirements. You must meet the following requirements, as applicable, when using a continuous monitoring system to demonstrate compliance with the emission limits in Table 2 or 3 to this subpart. The option to use a continuous emissions monitoring system for hydrogen chloride, dioxins/furans, cadmium, or lead takes effect on the date a final performance specification applicable to hydrogen chloride, dioxins/furans, cadmium or lead is published in the Federal Register. If you elect to use a continuous emissions monitoring system instead of conducting annual performance testing, you must meet the requirements of paragraphs (b)(1) through (6) of this section. If you elect to use a continuous automated sampling system instead of conducting annual performance testing, you must meet the requirements of paragraph (b)(7) of this section. The option to use a continuous automated sampling system for dioxins/furans takes effect on the date a final performance specification for such a continuous automated sampling system is published in the Federal Register.

(1) You must notify the Administrator 1 month before starting use of the continuous emissions monitoring system.

(2) You must notify the Administrator 1 month before stopping use of the continuous emissions monitoring system, in which case you must also conduct a performance test within prior to ceasing operation of the system.

(3) You must install, operate, calibrate, and maintain an instrument for continuously measuring and recording the emissions to the atmosphere in accordance with the following:

(i) Section 60.13 of subpart A of part 60.

(ii) The following performance specifications of appendix B of part 60, as applicable:

(A) For particulate matter, Performance Specification 11 of appendix B of part 60.

(B) For hydrogen chloride, Performance Specification 15 of appendix B of part 60.

(C) For carbon monoxide, Performance Specification 4B of appendix B of part 60 with spans appropriate to the applicable emission limit.

(D) [Reserved]

(E) For mercury, Performance Specification 12A of appendix B of part 60.

(F) For nitrogen oxides, Performance Specification 2 of appendix B of part 60.

(G) For sulfur dioxide, Performance Specification 2 of appendix B of part 60.

(iii) For continuous emissions monitoring systems, the quality assurance procedures (e.g., quarterly accuracy determinations and daily calibration drift tests) of appendix F of this part specified in paragraphs (b)(3)(iii)(A) through (G) of this section. For each pollutant, the span value of the continuous emissions monitoring system is two times the applicable emission limit, expressed as a concentration.

(A) For particulate matter, Procedure 2 in appendix F of part 60.

(B) For hydrogen chloride, Procedure 1 in appendix F of part 60 except that the Relative Accuracy Test Audit requirements of Procedure 1 shall be replaced with the validation requirements and criteria of sections 11.1.1 and 12.0 of Performance Specification 15 of appendix B of part 60.

(C) For carbon monoxide, Procedure 1 in appendix F of part 60.

(D) [Reserved]

(E) For mercury, Procedures 5 in appendix F of part 60.

(F) For nitrogen oxides, Procedure 1 in appendix F of part 60.

(G) For sulfur dioxide, Procedure 1 in appendix F of part 60.

(iv) If your monitoring system has a malfunction or out-of-control period, you must complete repairs and resume operation of your monitoring system as expeditiously as possible.

(4) During each relative accuracy test run of the continuous emissions monitoring system using the performance specifications in paragraph (b)(3)(ii) of this section, emission data for each regulated pollutant and oxygen (or carbon dioxide as established in (b)(5) of this section) must be collected concurrently (or within a 30- to 60-minute period) by both the continuous emissions monitoring systems and the test methods specified in paragraph (b)(4)(i) through (viii) of this section. Relative accuracy testing must be at representative operating conditions while the SSI unit is charging sewage sludge.

(i) For particulate matter, Method 5 at 40 CFR part 60, appendix A-3 or Method 26A or 29 at 40 CFR part 60, appendix A-8 shall be used.

(ii) For hydrogen chloride, Method 26 or 26A at 40 CFR part 60, appendix A-8, shall be used, as specified in Tables 2 and 3 to this subpart.

(iii) For carbon monoxide, Method 10, 10A, or 10B at 40 CFR part 60, appendix A-4, shall be used.

(iv) For dioxins/furans, Method 23 at 40 CFR part 60, appendix A-7, shall be used.

(v) For mercury, cadmium and lead, Method 29 at 40 CFR part 60, appendix A-8, shall be used. Alternatively for mercury, either Method 30B at 40 CFR part 60, appendix A-8 or ASTM D6784-02 (Reapproved 2008) (incorporated by reference, see § 60.17), may be used.

(vi) For nitrogen oxides, Method 7 or 7E at 40 CFR part 60, appendix A-4, shall be used.

(vii) For sulfur dioxide, Method 6 or 6C at 40 CFR part 60, appendix A-4, or as an alternative ANSI/ASME PTC 19.10-1981 (incorporated by reference, see § 60.17) must be used. For sources that have actual inlet emissions less than 100 parts per million dry volume, the relative accuracy criterion for the inlet of the sulfur dioxide continuous emissions monitoring system should be no greater than 20 percent of the mean value of the method test data in terms of the units of the emission standard, or 5 parts per million dry volume absolute value of the mean difference between the method and the continuous emissions monitoring system, whichever is greater.

(viii) For oxygen (or carbon dioxide as established in (b)(5) of this section), Method 3A or 3B at 40 CFR part 60, appendix A-2, or as an alternative ANSI/ASME PTC 19.10-1981 (incorporated by reference, see § 60.17), as applicable, must be used.

(5) You may request that compliance with the emission limits be determined using carbon dioxide measurements corrected to an equivalent of 7 percent oxygen. If carbon dioxide is selected for use in diluent corrections, the relationship between oxygen and carbon dioxide levels must be established during the initial performance test according to the procedures and methods specified in paragraphs (b)(5)(i) through (iv) of this section. This relationship may be re-established during subsequent performance tests.

(i) The fuel factor equation in Method 3B at 40 CFR part 60, appendix A-2 must be used to determine the relationship between oxygen and carbon dioxide at a sampling location. Method 3A or 3B at 50 CFR part 60, appendix A-2, or as an alternative ANSI/ASME PTC 19.10-1981 (incorporated by reference, see § 60.17), as applicable, must be used to determine the oxygen concentration at the same location as the carbon dioxide monitor.

(ii) Samples must be taken for at least 30 minutes in each hour.

(iii) Each sample must represent a 1-hour average.

(iv) A minimum of three runs must be performed.

(6) You must operate the continuous monitoring system and collect data with the continuous monitoring system as follows:

(i) You must collect data using the continuous monitoring system at all times the affected SSI unit is operating and at the intervals specified in paragraph (b)(6)(ii) of this section, except for periods of monitoring system malfunctions that occur during periods specified in § 62.15995(a)(7)(i), repairs associated with monitoring system malfunctions, and required monitoring system quality assurance or quality control activities (including, as applicable, calibration checks and required zero and span adjustments). Any such periods that you do not collect data using the continuous monitoring system constitute a deviation from the monitoring requirements and must be reported in a deviation report.

(ii) You must collect continuous emissions monitoring system data in accordance with § 60.13(e)(2).

(iii) Any data collected during monitoring system malfunctions, repairs associated with monitoring system malfunctions, or required monitoring system quality assurance or control activities must not be included in calculations used to report emissions or operating levels. Any such periods must be reported in a deviation report.

(iv) Any data collected during periods when the monitoring system is out of control as specified in § 60.4880(a)(7)(i), repairs associated with periods when the monitoring system is out of control, or required monitoring system quality assurance or control activities conducted during out-of-control periods must not be included in calculations used to report emissions or operating levels. Any such periods that do not coincide with a monitoring system malfunction as defined in § 62.16045, constitute a deviation from the monitoring requirements and must be reported in a deviation report.

(v) You must use all the data collected during all periods except those periods specified in paragraphs (b)(6)(iii) and (iv) of this section in assessing the operation of the control device and associated control system.

(7) If you elect to use a continuous automated sampling system instead of conducting annual performance testing, you must:

(i) Install, calibrate, maintain and operate a continuous automated sampling system according to the site-specific monitoring plan developed in § 60.58b(p)(1) through (6), (9), (10), and (q).

(ii) Collect data according to § 60.58b(p)(5) and paragraph (b)(6) of this section.

(c) Air pollution control device inspections. You must conduct air pollution control device inspections that include, at a minimum, the following:

(1) Inspect air pollution control device(s) for proper operation.

(2) Generally observe that the equipment is maintained in good operating condition.

(3) Develop a site-specific monitoring plan according to the requirements in § 62.15995. This requirement also applies to you if you petition the EPA Administrator for alternative monitoring parameters under § 60.13(i).

(d) Bypass stack. Use of the bypass stack at any time that sewage sludge is being charged to the SSI unit is an emissions standards deviation for all pollutants listed in Table 2 or 3 to this subpart. The use of the bypass stack during a performance test invalidates the performance test.

§ 62.16020 What are the monitoring and calibration requirements for compliance with my operating limits?

(a) You must install, operate, calibrate and maintain the continuous parameter monitoring systems according to the requirements in paragraphs (a)(1) and (2) of this section.

(1) Meet the following general requirements for flow, pressure, pH and operating temperature measurement devices:

(i) You must collect data using the continuous monitoring system at all times the affected SSI unit is operating and at the intervals specified in paragraph (a)(1)(ii) of this section, except for periods of monitoring system malfunctions that occur during periods specified defined in § 62.15995(a)(7)(i), repairs associated with monitoring system malfunctions, and required monitoring system quality assurance or quality control activities (including, as applicable, calibration checks and required zero and span adjustments). Any such periods that you do not collect data using the continuous monitoring system constitute a deviation from the monitoring requirements and must be reported in a deviation report.

(ii) You must collect continuous parameter monitoring system data in accordance with § 60.13(e)(2).

(iii) Any data collected during monitoring system malfunctions, repairs associated with monitoring system malfunctions, or required monitoring system quality assurance or control activities must not be included in calculations used to report emissions or operating levels. Any such periods must be reported in your annual deviation report.

(iv) Any data collected during periods when the monitoring system is out of control as specified in § 62.15995(a)(7)(i) must not be included in calculations used to report emissions or operating levels. Any such periods that do not coincide with a monitoring system malfunction, as defined in § 62.16045, constitute a deviation from the monitoring requirements and must be reported in a deviation report.

(v) You must use all the data collected during all periods except those periods specified in paragraphs (a)(1)(iii) and (iv) of this section in assessing the operation of the control device and associated control system.

(vi) Record the results of each inspection, calibration and validation check.

(2) Operate and maintain your continuous monitoring system according to your monitoring plan required under § 60.4880. Additionally:

(i) For carrier gas flow rate monitors (for activated carbon injection), during the performance test conducted pursuant to § 60.4885, you must demonstrate that the system is maintained within ±5 percent accuracy, according to the procedures in appendix A to part 75 of this chapter.

(ii) For carrier gas pressure drop monitors (for activated carbon injection), during the performance test conducted pursuant to § 60.4885, you must demonstrate that the system is maintained within ±5 percent accuracy.

(b) You must operate and maintain your bag leak detection system in continuous operation according to your monitoring plan required under § 60.4880. Additionally:

(1) For positive pressure fabric filter systems that do not duct all compartments of cells to a common stack, a bag leak detection system must be installed in each baghouse compartment or cell.

(2) Where multiple bag leak detectors are required, the system's instrumentation and alarm may be shared among detectors.

(3) You must initiate procedures to determine the cause of every alarm within 8 hours of the alarm, and you must alleviate the cause of the alarm within 24 hours of the alarm by taking whatever corrective action(s) are necessary. Corrective actions may include, but are not limited to the following:

(i) Inspecting the fabric filter for air leaks, torn or broken bags or filter media or any other condition that may cause an increase in particulate matter emissions.

(ii) Sealing off defective bags or filter media.

(iii) Replacing defective bags or filter media or otherwise repairing the control device.

(iv) Sealing off a defective fabric filter compartment.

(v) Cleaning the bag leak detection system probe or otherwise repairing the bag leak detection system.

(vi) Shutting down the process producing the particulate matter emissions.

(c) You must operate and maintain the continuous parameter monitoring systems specified in paragraphs (a) and (b) of this section in continuous operation according to your monitoring plan required under § 60.4880.

(d) If your SSI unit has a bypass stack, you must install, calibrate (to manufacturers' specifications), maintain and operate a device or method for measuring the use of the bypass stack including date, time and duration.

Recordkeeping and Reporting

§ 62.16025 What records must I keep?

You must maintain the items (as applicable) specified in paragraphs (a) through (n) of this section for a period of at least 5 years. All records must be available on site in either paper copy or computer-readable format that can be printed upon request, unless an alternative format is approved by the Administrator.

(a) Date. Calendar date of each record.

(b) Increments of progress. Copies of the final control plan and any additional notifications, reported under § 62.16030.

(c) Operator Training. Documentation of the operator training procedures and records specified in paragraphs (c)(1) through (4) of this section. You must make available and readily accessible at the facility at all times for all SSI unit operators the documentation specified in paragraph (c)(1) of this section.

(1) Documentation of the following operator training procedures and information:

(i) Summary of the applicable standards under this subpart.

(ii) Procedures for receiving, handling and feeding sewage sludge.

(iii) Incinerator startup, shutdown, and malfunction preventative and corrective procedures.

(iv) Procedures for maintaining proper combustion air supply levels.

(v) Procedures for operating the incinerator and associated air pollution control systems within the standards established under this subpart.

(vi) Monitoring procedures for demonstrating compliance with the incinerator operating limits.

(vii) Reporting and recordkeeping procedures.

(viii) Procedures for handling ash.

(ix) A list of the materials burned during the performance test, if in addition to sewage sludge.

(x) For each qualified operator and other plant personnel who may operate the unit according to the provisions of § 62.15945(a), the phone and/or pager number at which they can be reached during operating hours.

(2) Records showing the names of SSI unit operators and other plant personnel who may operate the unit according to the provisions of § 62.15945(a), as follows:

(i) Records showing the names of SSI unit operators and other plant personnel who have completed review of the information in paragraph (c)(1) of this section as required by § 62.15950(b), including the date of the initial review and all subsequent annual reviews.

(ii) Records showing the names of the SSI operators who have completed the operator training requirements under § 62.15920, met the criteria for qualification under § 62.15930, and maintained or renewed their qualification under § 62.15935 or § 62.15940. Records must include documentation of training, including the dates of their initial qualification and all subsequent renewals of such qualifications.

(3) Records showing the periods when no qualified operators were accessible for more than 8 hours, but less than 2 weeks, as required in § 62.15945(a).

(4) Records showing the periods when no qualified operators were accessible for 2 weeks or more along with copies of reports submitted as required in § 62.15945(b).

(d) Air pollution control device inspections. Records of the results of initial and annual air pollution control device inspections conducted as specified in §§ 62.15990 and 62.16015(c), including any required maintenance and any repairs not completed within 10 days of an inspection or the timeframe established by the Administrator.

(e) Performance test reports. (1) The results of the initial, annual and any subsequent performance tests conducted to determine compliance with the emission limits and standards and/or to establish operating limits, as applicable.

(2) Retain a copy of the complete performance test report, including calculations.

(3) Keep a record of the hourly dry sludge feed rate measured during performance test runs as specified in § 62.16015(a)(2)(i).

(4) Keep any necessary records to demonstrate that the performance test was conducted under conditions representative of normal operations, including a record of the moisture content measured as required in § 62.16015(a)(2)(ii) for each grab sample taken of the sewage sludge burned during the performance test.

(f) Continuous monitoring data. Records of the following data, as applicable:

(1) For continuous emissions monitoring systems, all 1-hour average concentrations of particulate matter, hydrogen chloride, carbon monoxide, dioxins/furans total mass basis, mercury, nitrogen oxides, sulfur dioxide, cadmium and lead emissions.

(2) For continuous automated sampling systems, all average concentrations measured for mercury and dioxins/furans total mass basis at the frequencies specified in your monitoring plan.

(3) For continuous parameter monitoring systems:

(i) All 1-hour average values recorded for the following operating parameters, as applicable:

(A) Combustion chamber operating temperature (or afterburner temperature).

(B) If a wet scrubber is used to comply with the rule, pressure drop across each wet scrubber system and liquid flow rate to each wet scrubber used to comply with the emission limit in Table 2 or 3 to this subpart for particulate matter, cadmium or lead and scrubber liquid flow rate and scrubber liquid pH for each wet scrubber used to comply with an emission limit in Table 2 or 3 to this subpart for sulfur dioxide or hydrogen chloride.

(C) If an electrostatic precipitator is used to comply with the rule, secondary voltage of the electrostatic precipitator collection plates and secondary amperage of the electrostatic precipitator collection plates and effluent water flow rate at the outlet of the wet electrostatic precipitator.

(D) If activated carbon injection is used to comply with the rule, sorbent flow rate and carrier gas flow rate or pressure drop, as applicable.

(ii) All daily average values recorded for the feed rate and moisture content of the sewage sludge fed to the sewage sludge incinerator, monitored and calculated as specified in § 62.15960(f).

(iii) If a fabric filter is used to comply with the rule, the date, time and duration of each alarm and the time corrective action was initiated and completed, and a brief description of the cause of the alarm and the corrective action taken. You must also record the percent of operating time during each6-month period that the alarm sounds, calculated as specified in § 62.16005.

(iv) For other control devices for which you must establish operating limits under § 62.15965, you must maintain data collected for all operating parameters used to determine compliance with the operating limits, at the frequencies specified in your monitoring plan.

(g) Other records for continuous monitoring systems. You must keep the following records, as applicable:

(1) Keep records of any notifications to the Administrator in § 60.4915(h)(1) of starting or stopping use of a continuous monitoring system for determining compliance with any emissions limit.

(2) Keep records of any requests under § 62.16015(b)(5) that compliance with the emission limits be determined using carbon dioxide measurements corrected to an equivalent of 7 percent oxygen.

(3) If activated carbon injection is used to comply with the rule, the type of sorbent used and any changes in the type of sorbent used.

(h) Deviation Reports. Records of any deviation reports submitted under § 62.16030(e) and (f).

(i) Equipment specifications and operation and maintenance requirements. Equipment specifications and related operation and maintenance requirements received from vendors for the incinerator, emission controls and monitoring equipment.

(j) Inspections, calibrations and validation checks of monitoring devices. Records of inspections, calibration and validation checks of any monitoring devices as required under §§ 62.16015 and 62.16020.

(k) Monitoring plan and performance evaluations for continuous monitoring systems. Records of the monitoring plans required under § 62.15995, and records of performance evaluations required under § 62.16000(b)(5).

(l) Less frequent testing. If, consistent with § 62.16000(a)(3), you elect to conduct performance tests less frequently than annually, you must keep annual records that document that your emissions in the two previous consecutive years were at or below 75 percent of the applicable emission limit in Table 1 or 2 to this subpart, and document that there were no changes in source operations or air pollution control equipment that would cause emissions of the relevant pollutant to increase within the past 2 years.

(m) Use of bypass stack. Records indicating use of the bypass stack, including dates, times and durations as required under § 62.16020(d).

(n) If a malfunction occurs, you must keep a record of the information submitted in your annual report in § 62.16030(c)(16).

§ 62.16030 What reports must I submit?

You must submit the reports to the Administrator specified in paragraphs (a) through (i) of this section. See Table 6 to this subpart for a summary of these reports.

(a) Increments of progress report. If you plan to achieve compliance more than 1 year following the effective date of state plan approval, you must submit the following reports, as applicable:

(1) A final control plan as specified in §§ 62.15875(b)(1) and 62.15900.

(2) You must submit your notification of achievement of increments of progress no later than 10 business days after the compliance date for the increment as specified in §§ 62.15885 and 62.15890.

(3) If you fail to meet an increment of progress, you must submit a notification to the Administrator postmarked within 10 business days after the date for that increment, as specified in § 62.15895.

(4) If you plan to close your SSI unit rather than comply with the Federal Plan, submit a closure notification as specified in § 62.15915.

(b) Initial compliance report. You must submit the following information no later than 60 days following the initial performance test.

(1) Company name, physical address and mailing address.

(2) Statement by a responsible official, with that official's name, title and signature, certifying the accuracy of the content of the report.

(3) Date of report.

(4) The complete test report for the initial performance test results obtained by using the test methods specified in Table 2 or 3 to this subpart.

(5) If an initial performance evaluation of a continuous monitoring system was conducted, the results of that initial performance evaluation.

(6) The values for the site-specific operating limits established pursuant to §§ 62.15960 and 62.15965 and the calculations and methods, as applicable, used to establish each operating limit.

(7) If you are using a fabric filter to comply with the emission limits, documentation that a bag leak detection system has been installed and is being operated, calibrated, and maintained as required by § 62.15960(b).

(8) The results of the initial air pollution control device inspection required in § 62.15990, including a description of repairs.

(9) The site-specific monitoring plan required under § 62.15995, at least 60 days before your initial performance evaluation of your continuous monitoring system.

(10) The site-specific monitoring plan for your ash handling system required under § 62.15995, at least 60 days before your initial performance test to demonstrate compliance with your fugitive ash emission limit.

(c) Annual compliance report. You must submit an annual compliance report that includes the items listed in paragraphs (c)(1) through (16) of this section for the reporting period specified in paragraph (c)(3) of this section. You must submit your first annual compliance report no later than 12 months following the submission of the initial compliance report in paragraph (b) of this section. You must submit subsequent annual compliance reports no more than 12 months following the previous annual compliance report. (You may be required to submit similar or additional compliance information more frequently by the title V operating permit required in § 62.16035.)

(1) Company name, physical address and mailing address.

(2) Statement by a responsible official, with that official's name, title and signature, certifying the accuracy of the content of the report.

(3) Date of report and beginning and ending dates of the reporting period.

(4) If a performance test was conducted during the reporting period, the results of that performance test.

(i) If operating limits were established during the performance test, include the value for each operating limit and, as applicable, the method used to establish each operating limit, including calculations.

(ii) If activated carbon is used during the performance test, include the type of activated carbon used.

(5) For each pollutant and operating parameter recorded using a continuous monitoring system, the highest average value and lowest average value recorded during the reporting period, as follows:

(i) For continuous emission monitoring systems and continuous automated sampling systems, report the highest and lowest 24-hour average emission value.

(ii) For continuous parameter monitoring systems, report the following values:

(A) For all operating parameters except scrubber liquid pH, the highest and lowest 12-hour average values.

(B) For scrubber liquid pH, the highest and lowest 3-hour average values.

(6) If there are no deviations during the reporting period from any emission limit, emission standard or operating limit that applies to you, a statement that there were no deviations from the emission limits, emission standard or operating limits.

(7) Information for bag leak detection systems recorded under § 62.16025(f)(3)(iii).

(8) If a performance evaluation of a continuous monitoring system was conducted, the results of that performance evaluation. If new operating limits were established during the performance evaluation, include your calculations for establishing those operating limits.

(9) If you elect to conduct performance tests less frequently as allowed in § 62.16000(a)(3) and did not conduct a performance test during the reporting period, you must include the dates of the last two performance tests, a comparison of the emission level you achieved in the last two performance tests to the 75 percent emission limit threshold specified in § 62.16000(a)(3), and a statement as to whether there have been any process changes and whether the process change resulted in an increase in emissions.

(10) Documentation of periods when all qualified sewage sludge incineration unit operators were unavailable for more than 8 hours, but less than 2 weeks.

(11) Results of annual air pollution control device inspections recorded under § 62.16025(d) for the reporting period, including a description of repairs.

(12) If there were no periods during the reporting period when your continuous monitoring systems had a malfunction, a statement that there were no periods during which your continuous monitoring systems had a malfunction.

(13) If there were no periods during the reporting period when a continuous monitoring system was out of control, a statement that there were no periods during which your continuous monitoring systems were out of control.

(14) If there were no operator training deviations, a statement that there were no such deviations during the reporting period.

(15) If you did not make revisions to your site-specific monitoring plan during the reporting period, a statement that you did not make any revisions to your site-specific monitoring plan during the reporting period. If you made revisions to your site-specific monitoring plan during the reporting period, a copy of the revised plan.

(16) If you had a malfunction during the reporting period, the compliance report must include the number, duration, and a brief description for each type of malfunction that occurred during the reporting period and that caused or may have caused any applicable emission limitation to be exceeded. The report must also include a description of actions taken by an owner or operator during a malfunction of an affected source to minimize emissions in accordance with § 60.11(d), including actions taken to correct a malfunction.

(d) Deviation reports. (1) You must submit a deviation report if:

(i) Any recorded operating parameter level, based on the averaging time specified in Table 4 to this subpart, is above the maximum operating limit or below the minimum operating limit established under this subpart.

(ii) The bag leak detection system alarm sounds for more than 5 percent of the operating time for the 6-month reporting period.

(iii) Any recorded 24-hour block average emissions level is above the emission limit, if a continuous monitoring system is used to comply with an emission limit.

(iv) There are visible emissions of combustion ash from an ash conveying system for more than 5 percent of any compliance test hourly observation period.

(v) A performance test was conducted that deviated from any emission limit in Table 2 or 3 to this subpart.

(vi) A continuous monitoring system was out of control.

(vii) You had a malfunction (e.g., continuous monitoring system malfunction) that caused or may have caused any applicable emission limit to be exceeded.

(2) The deviation report must be submitted by August 1 of that year for data collected during the first half of the calendar year (January 1 to June 30), and by February 1 of the following year for data you collected during the second half of the calendar year (July 1 to December 31).

(3) For each deviation where you are using a continuous monitoring system to comply with an associated emission limit or operating limit, report the items described in paragraphs (d)(3)(i) through (viii) of this section.

(i) Company name, physical address and mailing address.

(ii) Statement by a responsible official, with that official's name, title and signature, certifying the accuracy of the content of the report.

(iii) The calendar dates and times your unit deviated from the emission limits, emission standards or operating limits requirements.

(iv) The averaged and recorded data for those dates.

(v) Duration and cause of each deviation from the following:

(A) Emission limits, emission standards, operating limits and your corrective actions.

(B) Bypass events and your corrective actions.

(vi) Dates, times and causes for monitor downtime incidents.

(vii) A copy of the operating parameter monitoring data during each deviation and any test report that documents the emission levels.

(viii) If there were periods during which the continuous monitoring system malfunctioned or was out of control, you must include the following information for each deviation from an emission limit or operating limit:

(A) The date and time that each malfunction started and stopped.

(B) The date, time and duration that each continuous monitoring system was inoperative, except for zero (low-level) and high-level checks.

(C) The date, time and duration that each continuous monitoring system was out of control, including start and end dates and hours and descriptions of corrective actions taken.

(D) The date and time that each deviation started and stopped, and whether each deviation occurred during a period of malfunction, during a period when the system as out of control or during another period.

(E) A summary of the total duration of the deviation during the reporting period, and the total duration as a percent of the total source operating time during that reporting period.

(F) A breakdown of the total duration of the deviations during the reporting period into those that are due to control equipment problems, process problems, other known causes and other unknown causes.

(G) A summary of the total duration of continuous monitoring system downtime during the reporting period, and the total duration of continuous monitoring system downtime as a percent of the total operating time of the SSI unit at which the continuous monitoring system downtime occurred during that reporting period.

(H) An identification of each parameter and pollutant that was monitored at the SSI unit.

(I) A brief description of the SSI unit.

(J) A brief description of the continuous monitoring system.

(K) The date of the latest continuous monitoring system certification or audit.

(L) A description of any changes in continuous monitoring system, processes, or controls since the last reporting period.

(4) For each deviation where you are not using a continuous monitoring system to comply with the associated emission limit or operating limit, report the following items:

(i) Company name, physical address and mailing address.

(ii) Statement by a responsible official, with that official's name, title and signature, certifying the accuracy of the content of the report.

(iii) The total operating time of each affected source during the reporting period.

(iv) The calendar dates and times your unit deviated from the emission limits, emission standards or operating limits requirements.

(v) The averaged and recorded data for those dates.

(vi) Duration and cause of each deviation from the following:

(A) Emission limits, emission standards, operating limits and your corrective actions.

(B) Bypass events and your corrective actions.

(vii) A copy of any performance test report that showed a deviation from the emission limits or standards.

(viii) A brief description of any malfunction reported in paragraph (d)(1)(vii) of this section, including a description of actions taken during the malfunction to minimize emissions in accordance with § 60.11(d) and to correct the malfunction.

(e) Qualified operator deviation. (1) If all qualified operators are not accessible for 2 weeks or more, you must take the two actions in paragraphs (e)(1)(i) and (ii) of this section.

(i) Submit a notification of the deviation within 10 days that includes the three items in paragraphs (e)(1)(i)(A) through(C) of this section.

(A) A statement of what caused the deviation.

(B) A description of actions taken to ensure that a qualified operator is accessible.

(C) The date when you anticipate that a qualified operator will be available.

(ii) Submit a status report to the Administrator every 4 weeks that includes the three items in paragraphs (e)(1)(ii)(A) through (C) of this section.

(A) A description of actions taken to ensure that a qualified operator is accessible.

(B) The date when you anticipate that a qualified operator will be accessible.

(C) Request for approval from the Administrator to continue operation of the SSI unit.

(2) If your unit was shut down by the Administrator, under the provisions of § 62.15945(b)(2)(i), due to a failure to provide an accessible qualified operator, you must notify the Administrator within five days of meeting § 62.15945(b)(2)(ii) that you are resuming operation.

(f) Notification of a force majeure. If a force majeure is about to occur, occurs, or has occurred for which you intend to assert a claim of force majeure:

(1) You must notify the Administrator, in writing as soon as practicable following the date you first knew, or through due diligence, should have known that the event may cause or caused a delay in conducting a performance test beyond the regulatory deadline, but the notification must occur before the performance test deadline unless the initial force majeure or a subsequent force majeure event delays the notice, and in such cases, the notification must occur as soon as practicable.

(2) You must provide to the Administrator a written description of the force majeure event and a rationale for attributing the delay in conducting the performance test beyond the regulatory deadline to the force majeure; describe the measures taken or to be taken to minimize the delay; and identify a date by which you propose to conduct the performance test.

(g) Other notifications and reports required. You must submit other notifications as provided by § 60.7 and as follows:

(1) You must notify the Administrator 1 month before starting or stopping use of a continuous monitoring system for determining compliance with any emission limit.

(2) You must notify the Administrator at least 30 days prior to any performance test conducted to comply with the provisions of this subpart, to afford the Administrator the opportunity to have an observer present.

(3) As specified in § 62.16015(a)(8), you must notify the Administrator at least 7 days prior to the date of a rescheduled performance test for which notification was previously made in paragraph (g)(2) of this section.

(h) Report submission form. (1) Submit initial, annual and deviation reports electronically or in paper format, postmarked on or before the submittal due dates.

(2) Submit performance tests and evaluations according to paragraphs (i) and (ii) below.

(i) Within 60 days after the date of completing each performance test (see § 60.8) required by this subpart, you must submit the results of the performance test according to the method specified by either paragraph (A) or (B) of this section.

(A) For data collected using test methods supported by the EPA's Electronic Reporting Tool (ERT) as listed on the EPA's ERT Web site (http://www.epa.gov/ttn/chief/ert/index.html), you must submit the results of the performance test to the Compliance and Emissions Data Reporting Interface (CEDRI) that is accessed through the EPA's Central Data Exchange (CDX) (http://cdx.epa.gov/epa_home.asp), unless the Administrator approves another approach. Performance test data must be submitted in a file format generated through the use of the EPA's ERT. If you claim that some of the performance test information being transmitted is confidential business information (CBI), you must submit a complete file generated through the use of the EPA's ERT, including information claimed to be CBI, on a compact disk, flash drive, or other commonly used electronic storage media to the EPA. The electronic media must be clearly marked as CBI and mailed to U.S. EPA/OAPQS/CORE CBI Office, Attention: Group Leader, Measurement Policy Group, MD C404-02, 4930 Old Page Rd., Durham, NC 27703. The same ERT file with the CBI omitted must be submitted to the EPA via CDX as described earlier in this paragraph.

(B) For any performance tests conducted using test methods that are not supported by the EPA's ERT as listed on the EPA's ERT Web site, you must submit the results of the performance test to the Administrator at the appropriate address listed in § 60.4.

(ii) Within 60 days after the date of completing each CEMS performance evaluation (as defined in § 63.2), you must submit the results of the performance evaluation according to the method specified by either paragraph (A) or (B) of this section.

(A) For data collection of relative accuracy test audit (RATA) pollutants that are supported by the EPA's ERT as listed on the EPA's ERT Web site, you must submit the results of the performance evaluation to the CEDRI that is accessed through the EPA's CDX, unless the Administrator approves another approach. Performance evaluation data must be submitted in a file format generated through the use of the EPA's ERT. If you claim that some of the performance evaluation information being transmitted is CBI, you must submit a complete file generated through the use of the EPA's ERT, including information claimed to be CBI, on a compact disk or other commonly used electronic storage media (including, but not limited to, flash drives) by registered letter to the EPA. The compact disk shall be clearly marked as CBI and mailed to U.S. EPA/OAPQS/CORE CBI Office, Attention: Group Leader, Measurement Policy Group, MD C404-02, 4930 Old Page Rd., Durham, NC 27703. The same ERT file with the CBI omitted must be submitted to the EPA via CDX as described earlier in this paragraph.

(B) For any performance evaluations with RATA pollutants that are not supported by the EPA's ERT as listed on the EPA's ERT Web site, you shall submit the results of the performance evaluation to the Administrator at the appropriate address listed in § 60.4.

(3) Changing report dates. If the Administrator agrees, you may change the semiannual or annual reporting dates. See § 60.19(c) for procedures to seek approval to change your reporting date.

Title V Operating Permits

§ 62.16035 Am I required to apply for and obtain a Title V operating permit for my existing SSI unit?

Yes, if you are subject to an applicable EPA-approved and effective CAA section 111(d)/129 state or tribal plan or an applicable and effective Federal Plan, you are required to apply for and obtain a Title V operating permit for your existing SSI unit unless you meet the relevant requirements for an exemption specified in § 62.15860.

§ 62.16040 When must I submit a Title V permit application for my existing SSI unit?

(a) If your existing SSI unit is not subject to an earlier permit application deadline, a complete title V permit application must be submitted on or before the earlier of the dates specified in paragraphs (a)(1) through (3) of this section. (See sections 129(e), 503(c), 503(d), and 502(a) of the Clean Air Act and 40 CFR 70.5(a)(1)(i) and 40 CFR 71.5(a)(1)(i)).

(1) 12 months after the effective date of any applicable EPA-approved Clean Air Act section 111(d)/129 state or tribal plan.

(2) 12 months after the effective date of any applicable Federal Plan.

(3) March 21, 2014.

(b) For any existing unit not subject to an earlier permit application deadline, the application deadline of 36 months after the promulgation of 40 CFR part 60, subpart MMMM applies regardless of whether or when any applicable Federal Plan is effective, or whether or when any applicable Clean Air Act section 111(d)/129 state or tribal plan is approved by the EPA and becomes effective.

(c) If your existing unit is subject to title V as a result of some triggering requirement(s) other than those specified in paragraphs (a) and (b) of this section (for example, a unit may be a major source or part of a major source), then your unit may be required to apply for a title V permit prior to the deadlines specified in paragraphs (a) and (b). If more than one requirement triggers a source's obligation to apply for a title V permit, the 12-month time frame for filing a title V permit application is triggered by the requirement which first causes the source to be subject to title V. (See section 503(c) of the Clean Air Act and 40 CFR 70.3(a) and (b), 40 CFR 70.5(a)(1)(i), 40 CFR 71.3(a) and (b), and 40 CFR 71.5(a)(1)(i).)

(d) A “complete” title V permit application is one that has been determined or deemed complete by the relevant permitting authority under section 503(d) of the Clean Air Act and 40 CFR 70.5(a)(2) or 40 CFR 71.5(a)(2). You must submit a complete permit application by the relevant application deadline in order to operate after this date in compliance with federal law. (See sections 503(d) and 502(a) of the Clean Air Act and 40 CFR 70.7(b) and 40 CFR 71.7(b).)

Definitions

§ 62.16045 What definitions must I know?

Terms used but not defined in this subpart are defined in the Clean Air Act and § 60.2.

Administrator means:

(1) For units covered by the Federal Plan, the Administrator of the EPA or his/her authorized representative (e.g. delegated authority).

(2) For units covered by an approved state plan, the director of the state air pollution control agency or his/her authorized representative.

Affected source means a sewage sludge incineration unit as defined in § 62.16045.

Affirmative defense means, in the context of an enforcement proceeding, a response or defense put forward by a defendant, regarding which the defendant has the burden of proof, and the merits of which are independently and objectively evaluated in a judicial or administrative proceeding.

Auxiliary fuel means natural gas, liquefied petroleum gas, fuel oil or diesel fuel.

Bag leak detection system means an instrument that is capable of monitoring particulate matter loadings in the exhaust of a fabric filter (i.e., baghouse) in order to detect bag failures. A bag leak detection system includes, but is not limited to, an instrument that operates on triboelectric, light scattering, light transmittance or other principle to monitor relative particulate matter loadings.

Bypass stack means a device used for discharging combustion gases to avoid severe damage to the air pollution control device or other equipment.

Calendar year means 365 consecutive days starting on January 1 and ending on December 31.

Continuous automated sampling system means the total equipment and procedures for automated sample collection and sample recovery/analysis to determine a pollutant concentration or emission rate by collecting a single integrated sample(s) or multiple integrated sample(s) of the pollutant (or diluent gas) for subsequent on- or off-site analysis; integrated sample(s) collected are representative of the emissions for the sample time as specified by the applicable requirement.

Continuous emissions monitoring system means a monitoring system for continuously measuring and recording the emissions of a pollutant from an affected facility.

Continuous monitoring system (CMS) means a continuous emissions monitoring system, continuous automated sampling system, continuous parameter monitoring system or other manual or automatic monitoring that is used for demonstrating compliance with an applicable regulation on a continuous basis as defined by this subpart. The term refers to the total equipment used to sample and condition (if applicable), to analyze and to provide a permanent record of emissions or process parameters.

Continuous parameter monitoring system means a monitoring system for continuously measuring and recording operating conditions associated with air pollution control device systems (e.g., operating temperature, pressure and power).

Deviation means any instance in which an affected source subject to this subpart, or an owner or operator of such a source:

(1) Fails to meet any requirement or obligation established by this subpart, including but not limited to any emission limit, operating limit, or operator qualification and accessibility requirements.

(2) Fails to meet any term or condition that is adopted to implement an applicable requirement in this subpart and that is included in the operating permit for any affected source required to obtain such a permit.

Dioxins/furans means tetra- through octa-chlorinated dibenzo-p-dioxins and dibenzofurans.

Electrostatic precipitator or wet electrostatic precipitator means an air pollution control device that uses both electrical forces and, if applicable, water to remove pollutants in the exit gas from a sewage sludge incinerator stack.

Existing sewage sludge incineration unit means a sewage sludge incineration unit the construction of which is commenced on or before October 14, 2010.

Fabric filter means an add-on air pollution control device used to capture particulate matter by filtering gas streams through filter media, also known as a baghouse.

Fluidized bed incinerator means an enclosed device in which organic matter and inorganic matter in sewage sludge are combusted in a bed of particles suspended in the combustion chamber gas.

Malfunction means any sudden, infrequent, and not reasonably preventable failure of air pollution control and monitoring equipment, process equipment or a process to operate in a normal or usual manner. Failures that are caused, in part, by poor maintenance or careless operation are not malfunctions.

Modification means a change to an existing SSI unit later than September 21, 2011 and that meets one of two criteria:

(1) The cumulative cost of the changes over the life of the unit exceeds 50 percent of the original cost of building and installing the SSI unit (not including the cost of land) updated to current costs (current dollars). To determine what systems are within the boundary of the SSI unit used to calculate these costs, see the definition of SSI unit.

(2) Any physical change in the SSI unit or change in the method of operating it that increases the amount of any air pollutant emitted for which section 129 or section 111 of the Clean Air Act has established standards.

Modified sewage sludge incineration unit means an existing SSI unit that undergoes a modification, as defined in this section.

Multiple hearth incinerator means a circular steel furnace that contains a number of solid refractory hearths and a central rotating shaft; rabble arms that are designed to slowly rake the sludge on the hearth are attached to the rotating shaft. Dewatered sludge enters at the top and proceeds downward through the furnace from hearth to hearth, pushed along by the rabble arms.

Operating day means a 24-hour period between 12:00 midnight and the following midnight during which any amount of sewage sludge is combusted at any time in the SSI unit.

Particulate matter means filterable particulate matter emitted from SSI units as measured by Method 5 at 40 CFR part 60, appendix A-3 or Methods 26A or 29 at 40 CFR part 60, appendix A-8.

Power input to the electrostatic precipitator means the product of the test-run average secondary voltage and the test-run average secondary amperage to the electrostatic precipitator collection plates.

Process change means a significant permit revision, but only with respect to those pollutant-specific emission units for which the proposed permit revision is applicable, including but not limited to:

(1) A change in the process employed at the wastewater treatment facility associated with the affected SSI unit (e.g., the addition of tertiary treatment at the facility, which changes the method used for disposing of process solids and processing of the sludge prior to incineration).

(2) A change in the air pollution control devices used to comply with the emission limits for the affected SSI unit (e.g., change in the sorbent used for activated carbon injection).

Sewage sludge means solid, semi-solid, or liquid residue generated during the treatment of domestic sewage in a treatment works. Sewage sludge includes, but is not limited to, domestic septage; scum or solids removed in primary, secondary or advanced wastewater treatment processes; and a material derived from sewage sludge. Sewage sludge does not include ash generated during the firing of sewage sludge in a sewage sludge incineration unit or grit and screenings generated during preliminary treatment of domestic sewage in a treatment works.

Sewage sludge feed rate means the rate at which sewage sludge is fed into the incinerator unit.

Sewage sludge incineration (SSI) unit means an incineration unit combusting sewage sludge for the purpose of reducing the volume of the sewage sludge by removing combustible matter. Sewage sludge incineration unit designs include fluidized bed and multiple hearth. AN SSI unit also includes, but is not limited to, the sewage sludge feed system, auxiliary fuel feed system, grate system, flue gas system, waste heat recovery equipment, if any, and bottom ash system. The SSI unit includes all ash handling systems connected to the bottom ash handling system. The combustion unit bottom ash system ends at the truck loading station or similar equipment that transfers the ash to final disposal. The SSI unit does not include air pollution control equipment or the stack.

Shutdown means the period of time after all sewage sludge has been combusted in the primary chamber.

Solid waste means any garbage, refuse, sewage sludge from a waste treatment plant, water supply treatment plant or air pollution control facility and other discarded material, including solid, liquid, semisolid or contained gaseous material resulting from industrial, commercial, mining, agricultural operations and from community activities, but does not include solid or dissolved material in domestic sewage, or solid or dissolved materials in irrigation return flows or industrial discharges which are point sources subject to permits under section 402 of the Federal Water Pollution Control Act, as amended (33 U.S.C. 1342), or source, special nuclear, or byproduct material as defined by the Atomic Energy Act of 1954, as amended (42 U.S.C. 2014).

Standard conditions, when referring to units of measure, means a temperature of 68 °F (20 °C) and a pressure of 1 atmosphere (101.3 kilopascals).

Startup means the period of time between the activation, including the firing of fuels (e.g., natural gas or distillate oil), of the system and the first feed to the unit.

Toxic equivalency means the product of the concentration of an individual dioxin isomer in an environmental mixture and the corresponding estimate of the compound-specific toxicity relative to tetrachlorinated dibenzo-p-dioxin, referred to as the toxic equivalency factor for that compound. Table 5 to this subpart lists the toxic equivalency factors.

Wet scrubber means an add-on air pollution control device that utilizes an aqueous or alkaline scrubbing liquid to collect particulate matter (including nonvaporous metals and condensed organics) and/or to absorb and neutralize acid gases.

You means the owner or operator of an affected SSI unit.

Delegation of Authority

§ 62.16050 What authorities will be retained by the EPA Administrator?

The authorities that will not be delegated to state, local, or tribal agencies are specified in paragraphs (a) through (g) of this section.

(a) Approval of alternatives to the emission limits and standards in Tables 2 and 3 to this subpart and operating limits established under § 62.15965 or § 62.15985.

(b) Approval of major alternatives to test methods.

(c) Approval of major alternatives to monitoring.

(d) Approval of major alternatives to recordkeeping and reporting.

(e) The requirements in § 62.15965.

(f) The requirements in § 62.15945(b)(2).

(g) Performance test and data reduction waivers under § 60.8(b).

Table 1 to Subpart LLL of Part 62—Increments of Progress and Compliance Schedules for Existing Sewage Sludge Incineration Units
Comply with these increments of progress | By these dates
Increment 1—Submit final control plan | [DATE 3 MONTHS FROM DATE OF PUBLICATION OF THE FINAL RULE IN THE FEDERAL REGISTER].
Increment 2—Final compliance | March 21, 2016.

Table 2 to Subpart LLL of Part 62—Emission Limits and Standards for Existing Fluidized Bed Sewage Sludge Incineration Units
For the air pollutant | You must meet this emission limit ᵃ | Using these averaging methods and minimum sampling volumes or durations | And determining compliance using this method
Particulate matter | 18 milligrams per dry standard cubic meter | 3-run average (collect a minimum volume of 1 dry standard cubic meters sample per run) | Performance test (Method 5 at 40 CFR part 60, appendix A-3; Method 26A or Method 29 at 40 CFR part 60, appendix A-8).
Hydrogen chloride | 0.51 parts per million by dry volume | 3-run average (Collect a minimum volume of 1 dry standard cubic meters per run) | Performance test (Method 26A at 40 CFR part 60, appendix A-8).
Carbon monoxide | 64 parts per million by dry volume | 3-run average (collect sample for a minimum duration of one hour per run) | Performance test (Method 10, 10A, or 10B at 40 CFR part 60, appendix A-4).
Dioxins/furans (total mass basis); or Dioxins/furans (toxic equivalency basis).ᵇ | 1.2 nanograms per dry standard cubic meter (total mass basis); or 0.10 nanograms per dry standard cubic meter (toxic equivalency basis) | 3-run average (collect a minimum volume of 1 dry standard cubic meters per run) | Performance test (Method 23 at 40 CFR part 60, appendix A-7).
Mercury | 0.037 milligrams per dry standard cubic meter | 3-run average (For Method 29 and ASTM D6784-02 (Reapproved 2008),ᶜ collect a minimum volume of 1 dry standard cubic meters per run. For Method 30B, collect a minimum sample as specified in Method 30B at 40 CFR part 60, appendix A-8) | Performance test (Method 29 at 40 CFR part 60, appendix A-8; Method 30B at 40 CFR part 60, appendix A-8; or ASTM D6784-02 (Reapproved 2008).ᶜ
Oxides of nitrogen | 150 parts per million by dry volume | 3-run average (Collect sample for a minimum duration of one hour per run) | Performance test (Method 7 or 7E at 40 CFR part 60, appendix A-4).
Sulfur dioxide | 15 parts per million by dry volume | 3-run average (For Method 6, collect a minimum volume of 60 liters per run. For Method 6C, collect sample for a minimum duration of one hour per run) | Performance test (Method 6 or 6C at 40 CFR part 40, appendix A-4; or ANSI/ASME PTC-19.10-1981.ᶜ
Cadmium | 0.0016 milligrams per dry standard cubic meter | 3-run average (collect a minimum volume of 1 dry standard cubic meters per run) | Performance test (Method 29 at 40 CFR part 60, appendix A-8). Use GFAAS or ICP/MS for the analytical finish.
Lead | 0.0074 milligrams per dry standard cubic meter | 3-run average (collect a minimum volume of 1 dry standard cubic meters sample per run) | Performance test (Method 29 at 40 CFR part 60, appendix A-8. Use GFAAS or ICP/MS for the analytical finish.
Fugitive emissions from ash handling | Visible emissions of combustion ash from an ash conveying system (including conveyor transfer points) for no more than 5 percent of any compliance test hourly observation period | Three 1-hour observation periods | Visible emission test (Method 22 of appendix A-7 of this part).
ᵃ All emission limits are measured at 7 percent oxygen, dry basis at standard conditions.
ᵇ You have the option to comply with either the dioxin/furan emission limit on a total mass basis or the dioxin/furan emission limit on a toxic equivalency basis.
ᶜ Incorporated by reference, see § 60.17.

Table 3 to Subpart LLL of Part 62—Emission Limits and Standards for Existing Multiple Hearth Sewage Sludge Incineration Units
For the air pollutant | You must meet this emission limit ᵃ | Using these averaging methods and minimum sampling volumes or durations | And determining compliance using this method
Particulate matter | 80 milligrams per dry standard cubic meter | 3-run average (collect a minimum volume of 0.75 dry standard cubic meters per run) | Performance test (Method 5 at 40 CFR part 60, appendix A-3; Method 26A or Method 29 at 40 CFR part 60, appendix A-8).
Hydrogen chloride | 1.2 parts per million by dry volume | 3-run average (For Method 26, collect a minimum volume of 200 liters per run. For Method 26A, collect a minimum volume of 1 dry standard cubic meters per run) | Performance test (Method 26 or 26A at 40 CFR part 60, appendix A-8).
Carbon monoxide | 3,800 parts per million by dry volume | 3-run average (collect sample for a minimum duration of one hour per run) | Performance test (Method 10, 10A, or 10B at 40 CFR part 60, appendix A-4).
Dioxins/furans (total mass basis) Dioxins/furans (toxic equivalency basis).ᵇ | 5.0 nanograms per dry standard cubic meter; or 0.32 nanograms per dry standard cubic meter | 3-run average (collect a minimum volume of 1 dry standard cubic meters per run) | Performance test (Method 23 at 40 CFR part 60, appendix A-7).
Mercury | 0.28 milligrams per dry standard cubic meter | 3-run average (For Method 29 and ASTM D6784-02 (Reapproved 2008),ᶜ collect a minimum volume of 1 dry standard cubic meters per run. For Method 30B, collect a minimum sample as specified in Method 30B at 40 CFR part 60, appendix A-8) | Performance test (Method 29 at 40 CFR part 60, appendix A-8; Method 30B at 40 CFR part 60, appendix A-8; or ASTM D6784-02 (Reapproved 2008).ᶜ
Oxides of nitrogen | 220 parts per million by dry volume | 3-run average (Collect sample for a minimum duration of one hour per run) | Performance test (Method 7 or 7E at 40 CFR part 60, appendix A-4).
Sulfur dioxide | 26 parts per million by dry volume | 3-run average (For Method 6, collect a minimum volume of 200 liters per run. For Method 6C, collect sample for a minimum duration of one hour per run) | Performance test (Method 6 or 6C at 40 CFR part 40, appendix A-4; or ANSI/ASME PTC 19.10-1981.ᶜ
Cadmium | 0.095 milligrams per dry standard cubic meter | 3-run average (collect a minimum volume of 1 dry standard cubic meters per run) | Performance test (Method 29 at 40 CFR part 60, appendix A-8).
Lead | 0.30 milligrams per dry standard cubic meter | 3-run average (collect a minimum volume of 1 dry standard cubic meters per run) | Performance test (Method 29 at 40 CFR part 60, appendix A-8.
Fugitive emissions from ash handling | Visible emissions of combustion ash from an ash conveying system (including conveyor transfer points) for no more than 5 percent of any compliance test hourly observation period | Three 1-hour observation periods | Visible emission test (Method 22 of appendix A-7 of this part).
ᵃ All emission limits are measured at 7 percent oxygen, dry basis at standard conditions.
ᵇ You have the option to comply with either the dioxin/furan emission limit on a total mass basis or the dioxin/furan emission limit on a toxic equivalency basis.
ᶜ Incorporated by reference, see § 60.17.

Table 4 to Subpart LLL of Part 62—Operating Parameters for Existing Sewage Sludge Incineration Units a
For these operating parameters | You must establish these operating limits | And monitor using these minimum frequencies: Data measurement | And monitor using these minimum frequencies: Data recording ᵇ | And monitor using these minimum frequencies: Data averaging period for compliance
All sewage sludge incineration units
Combustion chamber operating temperature (not required if afterburner temperature is monitored) | Minimum combustion chamber operating temperature or afterburner temperature | Continuous | Every 15 minutes | 12-hour block.
Fugitive emissions from ash handling | Site-specific operating requirements | Not applicable | No applicable | Not applicable.
Scrubber
Pressure drop across each wet scrubber | Minimum pressure drop | Continuous | Every 15 minutes | 12-hour block.
Scrubber liquid flow rate | Minimum flow rate | Continuous | Every 15 minutes | 12-hour block.
Scrubber liquid pH | Minimum pH | Continuous | Every 15 minutes | 3-hour block.
Fabric Filter
Alarm time of the bag leak detection system alarm | Maximum alarm time of the bag leak detection system alarm (this operating limit is provided in § 60.4850 and is not established on a site-specific basis)
Electrostatic precipitator
Secondary voltage of the electrostatic precipitator collection plates Secondary amperage of the electrostatic precipitator collection plates | Minimum power input to the electrostatic precipitator collection plates | Continuous | Hourly | 12-hour block.
Effluent water flow rate at the outlet of the electrostatic precipitator | Minimum effluent water flow rate at the outlet of the electrostatic precipitator | Hourly | Hourly | 12-hour block.
Activated carbon injection
Mercury sorbent injection rate | Minimum mercury sorbent injection rate | Hourly | Hourly | 12-hour block.
Dioxin/furan sorbent injection rate | Minimum dioxin/furan sorbent injection rate
Carrier gas flow rate or carrier gas pressure drop | Minimum carrier gas flow rate or minimum carrier gas pressure drop | Continuous | Every 15 minutes | 12-hour block.
Afterburner
Temperature of the afterburner combustion chamber | Minimum temperature of the afterburner combustion chamber | Continuous | Every 15 minutes | 12-hour block.
ᵃ As specified in § 62.15985, you may use a continuous emissions monitoring system or continuous automated sampling system in lieu of establishing certain operating limits.
ᵇ This recording time refers to the minimum frequency that the continuous monitor or other measuring device initially records data. For all data recorded every 15 minutes, you must calculate hourly arithmetic averages. For all parameters, you use hourly averages to calculate the 12-hour or 3-hour block average specified in this table for demonstrating compliance. You maintain records of 1-hour averages.

Table 5 to Subpart LLL of Part 62—Toxic Equivalency Factors
Dioxin/Furan isomer | Toxic equivalency factor
2,3,7,8-tetrachlorinated dibenzo-p-dioxin | 1
1,2,3,7,8-pentachlorinated dibenzo-p-dioxin | 1
1,2,3,4,7,8-hexachlorinated dibenzo-p-dioxin | 0.1
1,2,3,7,8,9-hexachlorinated dibenzo-p-dioxin | 0.1
1,2,3,6,7,8-hexachlorinated dibenzo-p-dioxin | 0.1
1,2,3,4,6,7,8-heptachlorinated dibenzo-p-dioxin | 0.01
octachlorinated dibenzo-p-dioxin | 0.0003
2,3,7,8-tetrachlorinated dibenzofuran | 0.1
2,3,4,7,8-pentachlorinated dibenzofuran | 0.3
1,2,3,7,8-pentachlorinated dibenzofuran | 0.03
1,2,3,4,7,8-hexachlorinated dibenzofuran | 0.1
1,2,3,6,7,8-hexachlorinated dibenzofuran | 0.1
1,2,3,7,8,9-hexachlorinated dibenzofuran | 0.1
2,3,4,6,7,8-hexachlorinated dibenzofuran | 0.1
1,2,3,4,6,7,8-heptachlorinated dibenzofuran | 0.01
1,2,3,4,7,8,9-heptachlorinated dibenzofuran | 0.01
octachlorinated dibenzofuran | 0.0003

Table 6 to Subpart LLL of Part 62—Summary of Reporting Requirements for Existing Sewage Sludge Incineration Units a
Report | Due date | Contents | Reference
Increments of progress report | No later than 10 business days after the compliance date for the increment | 1. Final control plan including air pollution control device descriptions, process changes, type of waste to be burned, and the maximum design sewage sludge burning capacity 2. Notification of any failure to meet an increment of progress 3. Notification of any closure. | § 62.16030(a).
Initial compliance report | No later than 60 days following the initial performance test | 1. Company name and address 2. Statement by a responsible official, with that official's name, title, and signature, certifying the accuracy of the content of the report 3. Date of report. 4. Complete test report for the initial performance test 5. Results of CMS ᵇ performance evaluation 6. The values for the site-specific operating limits and the calculations and methods used to establish each operating limit 7. Documentation of installation of bag leak detection system for fabric filter 8. Results of initial air pollution control device inspection, including a description of repairs 9. The site-specific monitoring plan required under § 62.15995 10. The site-specific monitoring plan for your ash handling system required under § 62.15995 | § 62.16030(b).
Annual compliance report | No later than 12 months following the submission of the initial compliance report; subsequent reports are to be submitted no more than 12 months following the previous report | 1. Company name and address. 2. Statement and signature by responsible official 3. Date and beginning and ending dates of report | § 62.16030(c)
|  | 4. If a performance test was conducted during the reporting period, the results of the test, including any new operating limits and associated calculations and the type of activated carbon used, if applicable
|  | 5. For each pollutant and operating parameter recorded using a CMS, the highest recorded 3-hour average and the lowest recorded 3-hour average, as applicable
|  | 6. If no deviations from emission limits, emission standards, or operating limits occurred, a statement that no deviations occurred
|  | 7. If a fabric filter is used, the date, time, and duration of alarms.
|  | 8. If a performance evaluation of a CMS was conducted, the results, including any new operating limits and their associated calculations 9. If you met the requirements of § 62.16000(a)(3) and did not conduct a performance test, include the dates of the last three performance tests, a comparison to the 50 percent emission limit threshold of the emission level achieved in the last three performance tests, and a statement as to whether there have been any process changes 10. Documentation of periods when all qualified SSI unit operators were unavailable for more than 8 hours but less than 2 weeks 11. Results of annual pollutions control device inspections, including description of repairs 12. If there were no periods during which your CMSs had malfunctions, a statement that there were no periods during which your CMSs had malfunctions 13. If there were no periods during which your CMSs were out of control, a statement that there were no periods during which your CMSs were out of control 14. If there were no operator training deviations, a statement that there were no such deviations 15. Information on monitoring plan revisions, including a copy of any revised monitoring plan
Deviation report (deviations from emission limits, emission standards, or operating limits, as specified in § 62.16030(e)(1)) | By August 1 of a calendar year for data collected during the first half of the calendar year; by February 1 of a calendar year for data collected during the second half of the calendar year | If using a CMS: 1. Company name and address. 2. Statement by a responsible official. 3. The calendar dates and times your unit deviated from the emission limits or operating limits 4. The averaged and recorded data for those dates | § 62.16030(d).
|  | 5. Duration and cause of each deviation
|  | 6. Dates, times, and causes for monitor downtime incidents
|  | 7. A copy of the operating parameter monitoring data during each deviation and any test report that documents the emission levels
|  | 8. For periods of CMS malfunction or when a CMS was out of control, you must include the information specified in § 62.16030(d)(3)(viii) If not using a CMS:
|  | 1. Company name and address
|  | 2. Statement by a responsible official
|  | 3. The total operating time of each affected SSI
|  | 4. The calendar dates and times your unit deviated from the emission limits, emission standard, or operating limits
|  | 5. The averaged and recorded data for those dates
|  | 6. Duration and cause of each deviation
|  | 7. A copy of any performance test report that showed a deviation from the emission limits or standards
|  | 8. A brief description of any malfunction, a description of actions taken during the malfunction to minimize emissions, and corrective action taken
Notification of qualified operator deviation (if all qualified operators are not accessible for 2 weeks or more) | Within 10 days of deviation | 1. Statement of cause of deviation 2. Description of actions taken to ensure that a qualified operator will be available 3. The date when a qualified operator will be accessible | § 62.16030(e).
Notification of status of qualified operator deviation | Every 4 weeks following notification of deviation | 1. Description of actions taken to ensure that a qualified operator is accessible 2. The date when you anticipate that a qualified operator will be accessible 3. Request for approval to continue operation | § 62.16030(e).
Notification of resumed operation following shut down (due to qualified operator deviation and as specified in § 62.15945(b)(2)(i) | Within five days of obtaining a qualified operator and resuming operation | 1. Notification that you have obtained a qualified operator and are resuming operation | § 62.16030(e).
Notification of a force majeure | As soon as practicable following the date you first knew, or through due diligence should have known that the event may cause or caused a delay in conducting a performance test beyond the regulatory deadline; the notification must occur before the performance test deadline unless the initial force majeure or a subsequent force majeure event delays the notice, and in such cases, the notification must occur as soon as practicable | 1. Description of the force majeure event 2. Rationale for attributing the delay in conducting the performance test beyond the regulatory deadline to the force majeure 3. Description of the measures taken or to be taken to minimize the delay 4. Identification of the date by which you propose to conduct the performance test | § 62.16030(f).
Notification of intent to start or stop use of a CMS | 1 month before starting or stopping use of a CMS | 1. Intent to start or stop use of a CMS | § 62.16030(g).
Notification of intent to conduct a performance test | At least 30 days prior to the performance test | 1. Intent to conduct a performance test to comply with this subpart
Notification of intent to conduct a rescheduled performance test | At least 7 days prior to the date of a rescheduled performance test | 1. Intent to conduct a rescheduled performance test to comply with this subpart
ᵃ This table is only a summary, see the referenced sections of the rule for the complete requirements.
ᵇ CMS means continuous monitoring system.

[FR Doc. 2015-08777 Filed 4-24-15; 8:45 am]

BILLING CODE 6560-50-P